DEPARTMENT OF COMMERCE

National Oceanic and Atmospheric Administration

50 CFR Part 679

[Docket No. 010313063-1297-02; I.D. 121200A]

RIN 0648-AO20

Fisheries of the Exclusive Economic Zone Off Alaska; Revisions to Recordkeeping and Reporting Requirements

AGENCY: National Marine Fisheries Service (NMFS), National Oceanic and Atmospheric Administration (NOAA), Commerce.

ACTION: Final rule; recordkeeping and reporting.

SUMMARY: NMFS issues a final rule to amend portions of the regulations implementing recordkeeping and reporting (R&R) requirements for groundfish fisheries in the Exclusive Economic Zone (EEZ) off Alaska. This action is necessary to refine or correct regulations for improved management, to remove obsolete text, and to clarify and simplify existing text. This action is intended to facilitate management of the fisheries, promote compliance with the regulations, and facilitate enforcement efforts. This action is intended to further the goals and objectives of the Northern Pacific Halibut Act. This action is intended to further the goals and objectives of the fishery management programs for groundfish fisheries off Alaska and to further the objectives of the Magnuson-Stevens Fishery Conservation and Management Act (Magnuson-Stevens Act).

DATES: Effective January 25, 2002; except an amendment to § 679.26(c), which will not be effective until approval by OMB under the Paperwork Reduction Act (PRA). A document will be published in the Federal Register announcing OMB approval and the effective date.

ADDRESSES: Copies of the Regulatory Impact Review/Final Regulatory Flexibility Analysis (RIR/FRFA) prepared for this action may be obtained from the Alaska Region, NMFS, P.O. Box 21668, Juneau, AK 99802-1668, Attn: Lori Gravel. Send comments on information collection requests to NMFS and to OMB, Office of Information and Regulatory Affairs, Office of Management and Budget, Washington, DC, 20503 (Attn: NOAA Desk Officer).

FOR FURTHER INFORMATION CONTACT: Patsy A. Bearden, 907-586-7228 or patsy.bearden@noaa.gov.

SUPPLEMENTARY INFORMATION:

Background

NMFS manages the U.S. groundfish fisheries of the EEZ off Alaska under the Fishery Management Plan for Groundfish of the Gulf of Alaska and the Fishery Management Plan for the Groundfish Fishery of the Bering Sea and Aleutian Islands Area (FMPs). The North Pacific Fishery Management Council (Council) prepared the FMPs under the authority of the Magnuson-Stevens Act. Regulations implementing the FMPs appear at 50 CFR part 679. General regulations that pertain to U.S. fisheries appear at subpart H of 50 CFR part 600.

This final rule revises several sections of the regulations implementing the FMPs that pertain to permits and R&R. These changes are necessary to promote the ability of fishermen to conduct groundfish fishing operations more efficiently, to enhance NMFS' ability to manage the fisheries through improved quality of data received for management of the fisheries, and to improve the clarity and consistency of R&R regulations.

NMFS published a proposed rule in the Federal Register on August 8, 2001 (66 FR 41664), for a 30-day public comment and review period that ended on September 7, 2001. The preamble to the proposed rule contains a full description of the revisions and their justification, which is not repeated here. NMFS invited public comment on the changes contained in this action through September 7, 2001. No comments were received during this time period.

This final rule primarily consists of technical edits and clarifications to existing R&R requirements. These revisions include:

(1) Standardizing several terms and sets of instructions and correcting several terms within the regulatory text for uniformity and improved clarity;

(2) Adding cross references to regulatory text;

(3) Combining similar types of information into relational tables;

(4) Revising Figure 3, adding new Figures 19 and 20;

(5) Revising Tables 1, 2, 3, 7, 8, 9, 10, 11, and 19;

(6) Revising logbooks and forms;

(7) Amending 679.2 Definitions—by revision, additions, and deletions;

(8) Amending 679.4 Permits—by reorganizing, revising, and adding information to the regulatory text and summary tables;

(9) Amending 679.5 Recordkeeping and Reporting—by reorganizing to present common descriptions in one section; eliminating duplication; promoting uniformity; shortening descriptions of mundane tasks; and presenting options in tabular form so that specific requirements may be quickly located. In-text tables are added to display complex relationships and to sort out multiple options, steps, conditions, and choices.

Changes From the Proposed Rule to the Final Rule

This final rule makes certain changes to the regulatory text from the proposed rule. Some changes result from internal review, and are anticipated to improve the efficiency of the data collection system. Some changes correct inadvertent printing errors in the proposed rule published in the Federal Register.

The changes are intended to simplify the R&R tasks required by NMFS. Forms for data collection are redesigned to be easier to complete and submit, resulting in improved more accurate data. Regulatory text is amended to be consistent with the format of the forms and logbooks. These changes are as follows:

Tables

In Table 2, the Latin name of two species is added: rougheye rockfish (S. aleutianus) and shortraker rockfish (S. borealis).

Table 7 is revised by removing the proposed revisions that add eight communities that NMFS determined were eligible for the CDQ Program in 1999. Revisions to Table 7 will be considered by NMFS in a future rulemaking that will address a wider range of CDQ issues.

In Tables 10 and 11, the footnotes are revised. To improve convenience for the user and because the table numbers referenced in the footnotes from the annual Gulf of Alaska (GOA) and Bering Sea and Aleutian Islands (BSAI) groundfish specifications are constantly changing, the footnotes are expanded to contain complete information on species groups without reference to another document.

Tables 16 through 18 are removed because these tables were included in the final rule implementing the Commercial Operators Annual Report (66 FR 43524, August 20, 2001).

New Features

Certain improvements are included in this final rule to make the groundfish and Individual Fishing Quota (IFQ) regulations at 50 CFR part 679 more efficient and understandable. Electronic options to submit reports are made available without changing the information required.

Buying Station Report (BSR) Scale Weights

This rule adds an option at § 679.5(d)(1)(v) that provides for the operator or manager of a buying station to add groundfish species codes and scale weights (in lb or mt) on the buying station report (BSR) in addition to the required total estimated delivery weight or actual scale weight of a catcher vessel delivery. This is especially helpful when the buying station is delivering groundfish incidental catch harvested in an IFQ fishery, as the information is recorded on Alaska Department of Fish & Game (ADF&G) fish tickets.

IFQ Landing Report Internet Submittal

This rule amends § 679.5(l)(2) by adding a new electronic reporting option available to IFQ registered buyers. Instead of submitting an IFQ landing report by automated transaction terminal (ATM), in 2002 it is possible for participants to use Internet submittal methods to submit the report. This option requires that participants obtain at their own cost, hardware (including a printer), software, and Internet connectivity to support Internet submittals.

IFQ Fees and Buyer Report Electronic Submittal

This rule amends §§ 679.5(l)(7)and 679.45(a)(4)(iii) through (iv) by adding an option for participants to submit annual IFQ fees, fee forms, and IFQ Buyer Reports electronically.

Shoreside Processor Electronic Logbook Report (SPELR)

This rule adds § 679.5(e)(4)(iv) to clarify regulations for shoreside processors and stationary floating processors that are using the NMFS-provided SPELR but are not required by regulation to use it. If a shoreside processor or stationary floating processor using the SPELR or equivalent software is not taking deliveries over a weekend from one of the AFA-permitted catcher vessels listed on the NMFS Alaska Region web page at http://www.fakr.noaa.gov/ram, the SPELR daily report may be transmitted to NMFS on Monday.

American Fisheries Act (AFA) Pollock

This rule adds § 679.5(e)(4)(iv) to state that, if a shoreside processor or stationary floating processor using the SPELR or equivalent software is not taking deliveries over a weekend from one of the AFA-permitted catcher vessels, the SPELR daily report may be transmitted on Monday.

This rule adds § 679.5(a)(7)(xv)(E) to clarify the recording of AFA pollock. The AFA check-box and the cooperative account number are to be used ONLY for landings from the directed pollock fishery that are counting against an AFA cooperative quota. Other species delivered at the same time as the AFA pollock can go on the same report.

Editorial Additions and Corrections

This final rule also makes minor editorial revisions to correct errors or clarify the regulatory text as described below:

Global

Changes all reference to catcher vessel blue copy of DFL logsheets to say “blue DFL” at: §§ 679.5(a)(6)(iii)(A)(4)(ii) (twice); (a)(7)(iv)(C)(7); (a)(10)(v); (a)(11)(i); (a)(11)(iii)(C) (twice); (a)(11)(iv)(A); (a)(14)(iii(C)(2); (d)(1)(iii); and (e)(7)(iii).

Changes the abbreviation for NOAA Fisheries Office for Law Enforcement from NOFE to OLE at: (e)(3)(ii); (g)(2)(ii); (k)(1); (l)(1)(i); (l)(2)(ii)(A); (l)(2)(ii)(C) twice; (l)(2)(ii)(D); (l)(2)(iii)(A) (twice); (l)(3)(iii)(B); (l)(3)(i)(B); (l)(3)(iii) twice; and (l)(3)(xi)(A).

Definitions

Revises paragraph (1) for definition of Agent at § 679.2 to add support vessel, IFQ permit holders, and community development quota (CDQ) halibut permit holders that were inadvertently omitted.

Adds a definition for “Authorized officer” to mean, for purposes of recordkeeping and reporting, a NOAA special agent, a NOAA fishery enforcement officer, or U.S. Coast Guard (USCG) fisheries enforcement personnel.

Revises the definition of “Associated processor” to remove “a contract or agreement” and to replace it with “contractual relationship.”

Permits

Revises § 679.4(a)(1)(iv)(A) and (B) by changing the date from “3 years” to “until next renewal cycle” because even though the permits are renewed on a 3-year schedule, each participant may revise the permit during that 3-year cycle thus shortening the time span to less than 3 years;

Revises heading of § 679.4(a)(3) from “how do you obtain a permit” to read “permit application.”

Revises § 679.4(d)(2)(iii) by adding “or submits a departure report” after the word “clearance.”

Groundfish R&R

Corrects § 679.5(a)(1)(iv)(B) by removing “IFQ, CDQ halibut and” because the paragraph is referring to use of the combined logbook by participants fishing only for groundfish.

Revises paragraph 679.5(a)(2)(i)to read as originally written in the regulations.

Revises § 679.5(a)(2)(ii) to require that SPELR printouts be signed by the owner or manager.

Revises § 679.5(a)(2)(iii) as this text is redundant to information given in § 679.5(d).

Corrects § 679.5(a)(6)(iii)(A) intext table by adding “DCPL” in column 4 in the row entitled “(3) Production”.

Clarifies § 679.5(a)(7)(iii)(C)(4) by adding “End date” after last word of the sentence to ensure the location of recording the last day of an inactive period.

Corrects § 679.5(a)(7)(iv)(I)(3) in text table by removing “Enter the cumulative estimated total discards or disposition since last delivery” because it is duplicate text.

Corrects § 679.5(a)(7)(x) introductory text by removing “according to the table in paragraph (a)(7)(xii) of this section” and replacing it with “to record information as described in paragraphs (a)(7)(x)(A) through (a)(7)(x)(E) of this section.”

Corrects § 679.5(a)(7)(x)(C) by adding “(see paragraph (a)(7)(xii))” after the words “reporting area” in the first sentence.

Corrects § 679.5(a)(7)(xv)(B) intext table by removing “679.26” from the third column and replacing it with “679.6.”

Corrects cross reference in §§ 679.5(a)(10)(iv) and (a)(11)(iv) by removing “(a)(10)(vi)” and replacing it with “(a)(10)(v)”.

Revises § 679.5(a)(10)(vi) by adding the words “but not in PSC status” after “directed fishing” in the first sentence.

Corrects § 679.5(a)(11)(i) at the beginning of the second sentence by removing “Discards must also be recorded” and replace it with “Discards and dispositions must also be recorded.” It is important that the dispositions be recorded on the blue DFL for quota management.

Corrects § 679.5(a)(11)(ii)(A) by removing “and also when no groundfish are delivered but the blue discard logsheet containing records of discards is submitted by a catcher vessel (e.g., an IFQ fish delivery with no groundfish incidental catch)”; and replacing it with “Discards and dispositions also must be recorded when no groundfish are delivered but the blue DFL is submitted by a catcher vessel containing records of groundfish discards or disposition (e.g., an IFQ halibut delivery with groundfish incidental catch).

Corrects § 679.5(a)(11)(ii)(B) by removing “would be incorporated” and replacing it with “must be incorporated”

Corrects § 679.5(a)(11)(iii)(E) by adding “(A.l.t.) After the word “time” in the heading.

Revises § 679.5(a)(12)(i) by adding “all corrections must be made in ink.”

Corrects § 679.5(a)(13) by removing “operator of a buying station” and replacing it with “operator or manager of a buying station.”

Corrects § 679.5(a)(14)(i)(D) by removing “shoreside processor electronic logbook delivery report” and replacing it with “SPELR” because it was defined earlier in the document.

Corrects § 679.5(a)(14)(iv)(B)(1) by adding the data element that appears in the logbooks but was inadvertently omitted from this table: haul number for each haul.

Corrects § 679.5(a)(14)(iv)(B)(2) to add the following data elements that appear in the logbooks but were inadvertently omitted from this table: CDQ group number, halibut CDQ permit number, and IFQ permit number (if applicable)

Revises § 679.5(a)(15) by removing the heading “Transfer document comparison” and by replacing it with the heading “IFQ/groundfish transfer document comparison.”

Revises § 679.5(a)(15) by removing the text and replacing it with: “When the operator or manager is participating in both the groundfish fisheries and the IFQ fisheries, certain exceptions to submittal of product shipment and transfer forms are provided to avoid duplication. In the following table, an “X” indicates submittal requirements under those circumstances.”

Revises § 679.5(a)(15)(ii) column 3, intext table by removing “X” because a PTR is not required under these circumstances.

Revises § 679.5(a)(15)(iv) column 3, intext table by removing “X” because a PTR is not required under these circumstances.

Revises the BSR and paragraph 679.5(d)(1)(i) to record the date and time delivery from a catcher vessel was completed.

IFQ R&R

Revises § 679.5(l)2)(i)(C) by removing the words “offshore landings” and “(frozen)” to avoid potential confusion with paragraph 679.5(l)(2)(vi)(J)(2).

Revises § 679.5(l)(2)(iii)(A) by removing the local Juneau telephone number and leaving the toll-free telephone number, because NMFS is relocating the data clerks to Anchorage, and a new local Anchorage number will be issued soon.

Revises § 679.5(l)(2)(iii)(F) by removing “paragraph (l)(7)” and replacing it with “paragraph (l)(6)”;

Revises § 679.5(l)(2)(iv) to clarify the exemptions to the IFQ landing time limits by removing “unless:”

Revises the last word in the sentence of § 679.5(l)(2)(iv)(A) and change the punctuation from a colon to a period.

Adds new paragraph § 679.5(l)(2)(iv)(C) with the heading “Exemptions.”

Redesignates § 679.5(l)(2)(iv)(A)(1) and (2) and changes to read (l)(2)(iv)(C)(1) and (2);

Removes the text of § 679.5(l)(3)(i).

Revises § 679.5(l)(3)(i)(A) by removing the text after “sablefish” and adding “for which the Registered Buyer submitted a landing report before the fish leave the landing site;”

Revises heading of § 679.5(l)(3)(iv) by removing “or outside landing.”

Revises §§ 679.5(l)(5)(i), (ii), (iv) (vessel clearance) and 679.5(l)(5)(xii)(A)(departure report) to clarify that primary ports are in Alaska and in Bellingham, WA, whether landing IFQ species in Alaska, Canada, or any other foreign country;

Revises § 679.5(l)(5)(i) to remove reference to a written clearance. Enforcement does not typically rely on a written record from the IFQ vessel operator to perform the required vessel clearance. The required information instead is obtained through an interview between the vessel operator and the clearing officer.

Removes § 679.5(l)(5)(iii) as this duplicates revised paragraph § 679.5(l)(5)(i);

Redesignates § 679.5(l)(5)(iv) through (xii) as (l)(5)(iii) through (xi).

Revises § 679.5(l)(5)(xi) to reformat the first sentence, to remove “at a port in a state other than Alaska” and to replace it with “outside the State of Alaska”.

Revises § 679.5(b) by adding “or stationary floating processor” after “management of a shoreside processor.”

Removes § 679.5(p) and amend instruction 4 to remove mention of addition of paragraph (p). Paragraph (p) was added by a separate rulemaking for the Commercial Operator's Annual Report (COAR) (66 FR 43524, August 20, 2001). Instruction paragraphs are renumbered from hereon.

Removes proposed revisions to § 679.22 at paragraphs (a)(11)(iv)(A), (a)(11)(iv)(B), (b)(3)(iii)(A), (b)(3)(iii)(B) because this section is subject to changes in the Steller sea lion emergency revisions being prepared for implementation on January 1, 2002. The instruction paragraphs are renumbered.

Revises § 679.24(b)(3) by rewriting the paragraph to remove mention of net-sounder devices.

The proposed revision to § 679.31(d) related to crab CDQ reserves is removed because separate rulemaking was proposed on July 25, 2001 (66 FR 38626) that would revise this paragraph. The instruction paragraphs are renumbered starting with 9.

Classification

This final regulatory amendment is published under the authority of the Magnuson-Stevens Act, 16 U.S.C. 1801 et seq., and the Northern Pacific Halibut Act, 16 U.S.C. 773 et seq. The Regional Administrator has determined that the final regulatory amendment published under the authority of the Magnuson-Stevens Act is consistent with the FMPs and that Act, and that the final regulatory amendment is published under the authority of the Northern Pacific Halibut Act and is consistent with that Act.

A copy of the FRFA is available from NMFS (see ADDRESSES).

Alternatives that addressed modifying reporting requirements for small entities or the use of performance standards rather than design standards for small entities were not included in the analysis, because such alternatives are not relevant to this final action and would not mitigate impacts on small entities. Allowing exemptions for small entities would not be appropriate because the objectives of the proposed actions are to: (a) clarify and simplify the regulations pertaining to the management of the groundfish fisheries and the IFQ halibut and sablefish fisheries in the waters of the BSAI and the GOA; (b) ease certain regulatory burdens to reduce the cost of operation for fishermen and increase compliance with regulations; (c) reduce the costs of enforcing fisheries regulations; (d) enhance the value of the pollock fisheries managed under the AFA; (e) reduce the costs of compliance with pollock reasonable and prudent alternatives (RPAs) for Steller sea lion protection; (f) reduce the costs and increase the effectiveness of regulations to protect migratory birds identified as endangered or threatened under the Endangered Species Act (ESA).

The NMFS Alaska Region prepared a FRFA that analyzes a final rule that implements regulations for the FMP for the Groundfish Fishery of the Bering Sea and Aleutian Islands and the FMP for Groundfish of the Gulf of Alaska by revising R&R requirements and describes the impact of these regulations on small entities. The number of small entities to which the proposed rule will apply are identified as: 1,254 catcher vessels; 47 catcher processors; 32 onshore processors, 6 CDQ groups; 268 buying stations; 1,613 halibut fishing operations; and 92 Registered Buyers.

This FRFA analyzes proposed amendments to regulations at 50 CFR part 679 that would revise R&R regulations for the Alaska groundfish fisheries and for the IFQ halibut and sablefish fisheries off of Alaska. The objectives of the proposed actions are: to clarify and simplify the regulations pertaining to the management of the groundfish fisheries and the IFQ halibut and sablefish fisheries in the waters of the BSAI and the GOA; to ease certain regulatory burdens to reduce the cost of operation for fishermen and increase compliance with regulations; to reduce the costs of enforcing fisheries regulations; to enhance the value of the pollock fisheries managed under the AFA; to reduce the costs of compliance with pollock reasonable and prudent alternatives (RPAs) for Steller sea lion protection; and to reduce the costs and increase the effectiveness of regulations protecting migratory birds identified as endangered or threatened under the ESA. It provides the analyses required under Executive Order 12866 and the RFA.

Seven categories of regulatory changes are analyzed. Any one of them may be adopted in combination with any possible grouping of the others. Because of this, the FRFA evaluates each of the seven categories independently. Each of the proposals is evaluated against a “no action” alternative and the costs and benefits relative to the “no action” alternative are identified.

(1) Regulatory Housekeeping. Remove obsolete text, clarify and simplify existing text, and reorganize text to remove duplication. Add, revise, and remove definitions. Because the changes do not impose new responsibilities on small entities, there are no added costs.

(2) Buying Station Daily Cumulative Logbook (DCL) and Buying Station Report (BSR). Remove the requirement to obtain, complete, and submit the DCL. Add a requirement to complete, maintain, and distribute a Buying Station Report (BSR). As with the DCL, the processors who receive fish from buying stations must compile data from the BSRs; unlike the DCL, processors will not be required to file quarterly reports with NMFS. NMFS estimates that the annual costs for this activity for at-sea tenders would be about $312 per buying station per processor. The cost for 268 at-sea tenders would be about $83,616. This estimate assumes all tender permits are active and all at-sea tenders are in complete compliance. Costs for on-shore buying stations cannot be determined since the number of on-shore buying stations cannot be estimated with current data. NMFS' estimated costs would be about $670 per year for preparation and delivery of the BSR.

Substitution of the BSR for the DCL should benefit operators of buying stations by reducing their paperwork costs. It will benefit processors to the extent that the buying stations are their subsidiaries and they share in the reduced paperwork costs. NMFS estimates a reduction in public and private costs (a benefit) of about $8,700 per year. This estimate assumes all tender permits are active and in complete compliance with the program and does not take in to account the unknown number of land-based buying stations. No apparent additional costs are anticipated to implement this proposal other than those costs already incurred for the DCL.

(3) Shoreside Processor Electronic Logbook Report (SPELR). Extend the requirement to use the SPELR for processors buying from AFA catcher vessels past January 16, 2001, and require shoreside processors or stationary floating processors that receive pollock harvested in a directed pollock fishery to use the SPELR.

Regulations at § 679.5(f)(3) currently require managers of shoreside processors or stationary floating processors, who receive groundfish deliveries from AFA catcher vessels, to record and submit a SPELR for each catcher vessel delivery and to retain printed reports for the duration of the fishing year. Currently, 19 processors use the SPELR system under the Federal AFA regulations. Two processors that are not currently using the SPELR are making progress in bringing the SPELR system on line. NMFS estimates that adoption of the SPELR requires the use of a personal computer with a value of about $1,000 and 40-80 hours of staff time. The upper limit of this cost is estimated to be about $4,000 per entity.

The SPELR brings three classes of benefits: (a) Reduced annual R&R costs for NMFS and for entities adopting the SPELR, (b) enhanced value from the AFA statute, and (c) reduced costs of compliance with pollock RPAs for Steller sea lion protection. The annual R&R costs for firms and NMFS can be estimated. Each firm that adopts the SPELR will have annual SPELR expenses, but will no longer have to file or maintain the WPR or DCPL. The SPELR is expected to cost $941 per year for each entity while the savings on the WPR and DCPL is expected to be $2,508. NMFS will incur an additional $133 to receive SPELR reports from a new entity, but will save $627 per year on WPR and DCPL paperwork. The net overall paperwork savings should be about $2,194 per year for each firm that adopts the SPELR. Since two firms are expected to adopt, the total cost is $4,388 per year.

The cost of adopting the SPELR system is the cost to each firm of acquiring a computer and converting to the data processing system and software used by the SPELR. These costs are estimated to be $4,000 per firm. Four firms not using the SPELR would have to begin using it under this regulation, and three of these firms are known to have already made significant progress toward adopting the SPELR. As noted, 19 firms are currently required to use the SPELR because they buy groundfish from AFA catcher vessels. Another two firms would be required to begin using the SPELR under the provisions of the proposed rule requiring that firms accepting deliveries of pollock from fisheries targeting pollock use the SPELR. On the basis of anecdotal information, 13 of these firms are believed to be large firms, employing or affiliated with firms that employ more than 500 persons. The sizes of another eight of these firms are not known. For the purpose of this analysis, these have been treated as small entities, although this may overestimate the numbers of small entities. Six CDQ groups will also be impacted. CDQ groups are considered to be small non-profit entities.

(4) Individual Fishing Quota (IFQ) Program. Reporting requirements for data elements are added to the Prior Notice of IFQ Landing Report, the IFQ Landing Report, the IFQ Shipment Report, the IFQ Transshipment Authorization, the IFQ Vessel Clearance Report and the IFQ Departure Report.

Weight prior to offload. Some of the vessels landing IFQ halibut and IFQ sablefish are catcher/processors that freeze and package IFQ halibut and sablefish on board before delivery. In many cases, the vessel operator acts as an IFQ Registered Buyer taking possession of the IFQ fish and making the landing report. These operations often calculate the weight of product that they produce at the time of production. However, current regulations at § 679.5(l)(2)(vi) require that Registered Buyers, taking possession of IFQ fish at landing, record the product code and initial accurate scale weight made at the time offloading commences for IFQ species sold and retained. Frozen product requires a second weighing of the fish. This regulatory change would redesignate § 679.5(1)(2)(vi)(J) as § 679.5(1)(2)(vi)(J)(1) and add a new paragraph (l)(2)(vi)(J)(2) to allow a vessel operator, if he or she is a Registered Buyer reporting the IFQ landing, to substitute the “accurate weight of IFQ sablefish processed product obtained before the offload” for the “initial accurate weight at time of offload.” OLE would still be able to monitor the offload and weigh the product if necessary for the purpose of auditing under other regulations.

Debit all catch to IFQ account; Vessel operator responsible for landing. Regulatory changes would make it clear that fishermen who set aside part of their IFQ catch for home consumption would be required to debit that harvest against their IFQ account; a vessel operator has an obligation to offload all IFQ fish to a Registered Buyer. A new § 679.5(l)(2)(i)(C) would be added to clarify that the weight of any halibut or sablefish offshore landings made by a catcher/processor into product (frozen) prior to offload at the landing site must be properly debited from the IFQ permit holder's account under which the catch was harvested. These regulatory changes would not add new requirements to the IFQ halibut and IFQ sablefish program but would only clarify existing regulations. If this clarification reduced efforts to by-pass the reporting requirements, or made it easier to prosecute those requirements, it would reduce program costs. Because the requirement does not impose new responsibilities on fishermen, it does not add to their costs.

Regulatory area on prior notice of IFQ landing report. This change would amend § 679.5(l)(1)(iii) to add a question to the Prior Notice of IFQ Landing Report; fishermen would be required to report on the IFQ regulatory area within which IFQ halibut or IFQ sablefish were harvested. The benefit of the regulation would be the improved compliance with IFQ regulations. The cost would be the burden of answering the additional question when the prior notice of landing was made. This cost would be very small since the information is already known when the Prior Notice of IFQ Landing is made. In 2000, 10,279 prior notices of landing were submitted. If the answer to the question added 30 seconds to each notice, the total additional time would have been 86 hours. At $20 per hour (the pay for a Federal GS-7 in Alaska, including COLA), the total cost would have valued at about $1,700.

IFQ landing report. Additional information would be collected in the landings reports filled out by Registered Buyers that would reduce the costs of monitoring landings made under the exemption. This information would include the gear type used to harvest the fish and regardless of whether the IFQ fish were landed concurrently with salmon or dinglebar lingcod.

The benefits from these proposed changes would be increased flexibility and consequent reduced operating costs for dinglebar lingcod fishermen who hold halibut QS, and in addition, an improved ability by NMFS to target its enforcement assets. The cost to registered buyers of collecting and reporting the additional information would be small.

Registered buyers complete landings reports using automated terminals. These terminals lead the buyers through a series of question prompts. The change would require the addition to prompts for the gear type used in the landing and for information on whether or not salmon or lingcod taken with dinglebar gear was landed concurrently with the IFQ fish. This information should be known to or readily available to the registered buyer. In 2000, about 10,057 landings reports were submitted. At 1 minute for the two additional questions, the total additional time required would have been about 168 hours. At $20 per hour (the pay for a Federal GS-7 in Alaska, including COLA), the total cost would have valued at about $3,400.

IFQ shipment report. Regulations at § 679.5(l)(3) would be amended to add a requirement to the IFQ Shipment Report to allow short-distance movement of IFQ fish accompanied by an ATM landing receipt by a Registered Buyer to his or her processing plant. Currently Registered Buyers are required to complete and file an IFQ shipment report before they move fish away from the place where they are landed. Many firms, whose plants are located away from landing places, are inconvenienced by the need to complete the form before moving the fish from the place where they were landed to the place where they will be processed. This regulatory change would reduce the costs for this class of Registered Buyer. OLE would still receive a landing report from the landing place; the IFQ shipment report would still be required from the Registered Buyer before the buyer disposed of the fish to other parties. The most important use for Shipment Reports is to provide the ability to audit Registered Buyers' landings by monitoring movements of fish being moved in the chain of possession from the Registered Buyer. There are no costs associated with this regulatory change and there will be cost savings to Registered Buyers whose plants are located at a distance from landings places.

IFQ transshipment authorization. Regulations at § 679.5(l)(4) would be amended to revise the regulatory text describing the IFQ Transshipment Authorization by adding a list of required information to obtain a transshipment authorization. Vessel operators transshipping (from one vessel to another) IFQ halibut and IFQ sablefish are required to obtain a Transshipment Authorization at least 24 hours before the transshipment. This gives OLE time to decide whether or not to monitor the transshipments, plan resources, and arrange the logistics for monitoring the transshipment. This change is principally needed to monitor the offloading of freezer longliners to tramp freighters. OLE routinely collects certain information from persons requesting the authorization to find out when and where the transshipment will occur and how long it might take. This change will provide a basis in regulation for the specific information collected when an authorization is requested. This should not increase the costs for fishing operations or for the operations taking possession of the fish at sea since it would not affect the requirement for authorizations. It may reduce enforcement costs by clarifying the types of information that are required when an authorization is requested.

IFQ vessel clearance report and the IFQ departure report. This proposed change will make the vessel clearance and departure report regulations clearer and may reduce the amount of time it takes to find, read and interpret them. The substantive part of the change involves the revision of the departure report requirement to prevent IFQ fishing after the report is filed. This change clarifies the intent of the regulation that departure reports be filed after IFQ fishing has finished. While almost all departure reports are believed to have been filed after fishing has been concluded, at least one in the last 2 years was not. The intent is to close this loophole. The benefit will be an enhanced ability to enforce the IFQ program. There is no cost to fishermen from this change because a departure report can be filed as easily after fishing is concluded as before it is concluded.

(5) Product Transfer Report (PTR). Regulations at § 679.5(g) currently require the operators of motherships, catcher/processors, or managers of shoreside processors or stationary floating processors to record each transfer of groundfish product (including unprocessed fish) or donated prohibited species, on a PTR. An important enforcement document, the PTR provides the principal information for the movement of volumes of groundfish into and out of the facilities of a processor and provides a check on buyer purchase reports. Because of its importance, the PTR is used with audits and by physical inspection of product.

This change would provide processors more flexibility in adapting their responses to their working procedures and may result in some private sector time savings. If the regulation change reduces the time taken to fill out the PTRs by 10 percent, it would produce a private sector cost savings of about $1,568 per year. There are no implementation or other costs.

NMFS estimates that 171 processors (110 catcher/processors, 3 motherships, and 58 shoreside processors or stationary floating processors) must currently file a PTR for each transfer of product an average of 25 times a year generating 4,275 PTRs per year. The estimated time requirement for a PTR is 11 minutes. Total time devoted to PTRs is estimated to be 784 hours a year. NMFS estimates that the total cost of PTR preparation is $15,675 (this does not include costs of submittal to NMFS by FAX).

Forty-seven catcher/processors and 32 shoreside processors are assumed to be small entities. The remaining operations are assumed to be large entities. Six CDQ groups would also be impacted. CDQ groups are considered to be small non-profit entities. The new PTR format would reduce the costs to NOAA and USCG enforcement efforts and would allow for more effective enforcement of product transfer rules.

(6) Marking of gear. The rule would increase the financial costs to a few small entities by extending requirements to mark identification information on marker buoys that currently apply only to longline gear to include also hook-and-line, longline pot, and pot-and-line gear. Most fishermen have their marker buoys properly identified and would not be adversely affected by this regulation. Fishermen affected by this regulation would incur the costs of marking their own marker buoys and legally would not be able to use another fisherman's marker buoys. State regulations (5 AAC 28.050) currently require crab and groundfish pots to carry the ADF&G registration number of the vessel operating the gear. Since many Pacific cod fishermen already participate in State groundfish and crab fisheries, they would already be subject to this requirement.

The regulation extends the marker buoy requirement to vessels using pot gear to fish for groundfish. In 1999, 254 catcher-vessels caught groundfish with pot gear off of Alaska; 13 catcher-processors also used pot gear. In 1999, no pot vessels had Alaska groundfish landings with ex-vessel or product value over $3,000,000. Six CDQ groups will also be impacted. CDQ groups are considered to be small non-profit entities. Marking of marker buoys reduces the costs to NOAA and USCG enforcement efforts and allows for more effective enforcement of gear rules.

(7) Seabird avoidance gear. The rule would add a requirement for operators of catcher vessels over 60 ft (18.3 m) LOA and catcher/processors using hook-and-line gear to record in the logbook the type of bird avoidance gear used on the vessel. A regulation currently exists at § 679.24(e) that requires bird avoidance gear be used. This rule merely makes it a requirement to record the code in the logbook that describes the type of gear used. NMFS estimates that it would take approximately 1 minute per haul for a vessel operator to collect information on what type of avoidance gear is being used and to enter the information into the log. Based on 19,245 hauls, the cost in time to the entire hook-and-line fleet would be approximately 321 hours per year. Evaluating this time at a cost of $20/hour (the average wages and benefits for a Federal GS-7 employee in Alaska, including COLA), the cost imposed would be $6,415 per year.

A copy of this analysis is available from NMFS (see ADDRESSES).

This rule contains several collection-of-information requirements subject to the Paperwork Reduction Act (PRA) that have been approved by OMB. Public reporting burden for these collections of information is given below by collection-of-information number and is estimated to average the time given per individual response for each requirement, including the time for reviewing instructions, searching existing data sources, gathering and maintaining the data needed, and completing and reviewing the collection of information. Send comments regarding this burden estimate, or any other aspect of this data collection, including suggestions for reducing the burden, to NMFS and OMB (see ADDRESSES).”

0648-0206: 5 hours for an exempted fishery progress report; 5 hours for an exempted fishery permit application; and 30 minutes for a High Seas Power Troller Salmon Permit; 20 minutes for the Federal Fisheries Permit/Federal Processor Permit Application.

0648-0213: 35 minutes for Weekly Cumulative Mothership ADF&G Fish Tickets; 14 minutes for U.S. Vessel Activity Report; 17 minutes for Catcher Vessel trawl gear DFL; 28 minutes for Catcher Vessel longline and pot gear DFL; 31 minutes for Catcher/processor trawl gear DCPL; 41 minutes for Catcher/processor longline and pot gear DCPL; 31 minutes for Shoreside processor DCPL; 31 minutes for Mothership DCPL; 8 minutes for Shoreside Processor Check-in/Check-out Report; 7 minutes for Mothership or Catcher/processor Check-in/Check-out Report; 11 minutes for Product transfer report; 17 minutes for Weekly Production Report; 11 minutes for Daily Production Report; estimated time to electronically submit the weekly production report (5 min./report); 5 minutes to electronically submit the check-in/check-out report; 23 minutes for buying station report.

0648-0269: 1 hour for CDQ Delivery Report; and 15 minutes for CDQ catch report.

0648-0353: 15 minutes to paint each buoy with the vessel name and Federal permit number, or ADF&G registration number.

0648-0401: 30 minutes for daily completion of the Shoreside Processor Electronic Logbook (SPELR) and the estimated time to electronically submit the SPELR (30 min./day); and 5 minutes for estimated time to print the SPELR reports.

0648-0272: 12 minutes for IFQ Prior notice of landing; 12 minutes for IFQ Landing report; 18 minutes for IFQ Shipment report; 12 minutes for IFQ Transshipment authorization; 12 minutes for IFQ Vessel clearance; 6 minutes for IFQ Departure report; 6 minutes for IFQ Dockside sale; 6 minutes for Administrative waiver.

This rule also contains the following requirements that will be submitted to OMB for approval.

Forty hours for a distributor application; 6 minutes for product tracking of a shipment by a vessel or processor; and 15 minutes to provide documentation on a vessel or processor.

Public comment is sought regarding: whether these three collection of information requirements are necessary for the proper functions of the agency, including whether the information shall have practical utility; the accuracy of the burden estimate; ways to enhance the quality, utility, and clarity of the information to be collected, including through the use of automated collection techniques or other forms of information technology. Send comments on these requirements to NMFS (see ADDRESSES) and to OMB (see ADDRESSES). NMFS will publish a notice announcing the effectiveness of these requirements if and when they have been approved by OMB.

Notwithstanding any other provision of the law, no person is required to respond to, nor shall any person be subject to a penalty for failure to comply with, a collection of information subject to the requirements of the PRA, unless that collection of information displays a currently valid OMB Control Number.

The Assistant Administrator for Fisheries, (AA) NOAA, under 5 U.S.C. 553(d)(3), finds that the need to provide for consistent recordkeeping and reporting for the 2002 groundfish fishing year would be contrary to the public interest to delay the effective date of this action for 30 days.

List of Subjects in 50 CFR Part 679

Alaska, Fisheries, Recordkeeping and reporting requirements.

Dated: December 18, 2001.
William T. Hogarth,
Assistant Administrator for Fisheries, National Marine Fisheries Service.

For the reasons set forth in the preamble, 50 CFR part 679 is amended as follows:

PART 679—FISHERIES OF THE EXCLUSIVE ECONOMIC ZONE OFF ALASKA

1. The authority citation for 50 CFR part 679 continues to read as follows:

Authority: 16 U.S.C. 773 et seq., 1801 et seq., and 3631 et seq.

2. In § 679.2 the definitions for “Bycatch species,” “CDQ delivery number,” “Gear deployment,” and “Gear retrieval” are removed; the definitions for “Active/inactive periods,” “Ancillary product,” the introductory text of “Area/species endorsement,” paragraph (1)(v) of “Fishing trip,” “Forage fish,” “Groundfish,” “Logbook,” “Person,” “Primary product,” “Reprocessed or rehandled product,” “Sablefish (black cod),” and “Set” are revised; the definitions for “Agent,” “Associated processor,” “Authorized officer,” “Bycatch or bycatch species,” “Endorsement,” “Experimental fishery,” “Gear,” “Gear deployment (or to set gear),” “Gear retrieval (or to haul gear),” “Harvest zone codes,” “Incidental catch or incidental species,” “Product transfer report (PTR),” “Prohibited species,” “Representative,” “Seabird avoidance gear,” “Shoreside processor electronic logbook report (SPELR),” “Tagged halibut or sablefish,” and “Weekly production report (WPR)” are added to read as follows:

§ 679.2 Definitions.

* * * * *

Active/inactive periods (see § 679.5(a)(7)(i)).

* * * * *

Agent (1) For purposes of permits issued under § 679.4, means a person appointed and residing within the United States who may apply for permits and may otherwise act on behalf of the owner, operator, or manager of a catcher vessel, catcher/processor, mothership, shoreside processor, stationary floating processor, buying station, support vessel, or on behalf of the IFQ permit holders, IFQ registered buyers, or CDQ halibut permit holders.

(2) For purposes of groundfish product distribution under § 679.5(g), means a buyer, distributor, or shipper but not a buying station, who may receive and distribute groundfish on behalf of the owner, operator, and manager of a catcher/processor, mothership, shoreside processor, or stationary floating processor.

(3) For purposes of IFQ recordkeeping and reporting under § 679.5(l), means a person who on behalf of the Registered Buyer may submit IFQ reports.

* * * * *

Ancillary product (see Table 1 to this part).

* * * * *

Area/species endorsement means (for purposes of LLP) a designation on a license that authorizes a license holder to deploy a vessel to conduct directed fishing for the designated crab species in Federal waters in the designated area (see Figures 16 and 17 to this part). Area/species endorsements for crab species licenses are as follows:

* * * * *

Associated processor means, a federally permitted mothership, shoreside processor, or stationary floating processor that has a contractual relationship with a buying station to conduct groundfish buying station activities for that processor.

* * * * *

Authorized officer means, for purposes of recordkeeping and reporting, a NOAA special agent, a NOAA fishery enforcement officer, or USCG fisheries enforcement personnel.

* * * * *

Bycatch or bycatch species means fish caught and released while targeting another species or caught and released while targeting the same species.

* * * * *

Endorsement. (1) (See area endorsement for purposes of the groundfish LLP permits);

(2) (See area/species endorsement for purposes of the crab LLP permits);

(3) (See § 679.4(g)(3)(ii) area endorsements for purposes of the scallop permit).

Experimental fishery (see Exempted fishery, § 679.6).

* * * * *

Fishing trip means:

(1) * * *

(v) The end of a weekly reporting period (except a catcher vessel); whichever comes first.

* * * * *

Forage fish (see Table 2 to this part).

* * * * *

Gear (see the definition for Authorized fishing gear of this section).

Gear deployment (or to set gear) means:

(1) Position of gear deployment (lat. and long.):

(i) For trawl gear. The position where the trawl gear reaches the fishing level and begins to fish.

(ii) For hook-and-line gear. The beginning position of a set of hook-and-line gear.

(iii) For jig or troll gear. The position where the jig or troll gear enters the water.

(iv) For pot gear. The position of the first pot in a string of pots.

(2) Time of gear deployment (A.l.t.):

(i) For trawl gear. The time when the trawl gear reaches the fishing level and begins to fish.

(ii) For hook-and-line gear. The time when the first hook-and-line gear of a set is deployed.

(iii) For jig or troll gear. The time when jig or troll gear enters the water.

(iv) For pot gear. The time when the first pot in a string of pots is deployed.

Gear retrieval (or to haul gear) means:

(1) Position of gear retrieval (lat. and long. to the nearest minute):

(i) For trawl gear. The position where retrieval of trawl gear cable commences.

(ii) For hook-and-line gear. The position where the last hook-and-line gear of a set leaves the water, regardless of where the majority of the set took place.

(iii) For jig or troll gear. The position where the jig or troll gear leaves the water.

(iv) For pot gear. The position where the last pot of a set is retrieved, regardless of where the majority of the set took place.

(2) Time of gear retrieval (A.l.t.):

(i) For trawl gear. The time when retrieval of trawl gear cable commences.

(ii) For hook-and-line gear. The time when the last hook-and-line gear of a set leaves the water.

(iii) For jig or troll gear. The time when the jig or troll gear leaves the water.

(iv) For pot gear. The time when the last pot of a set is retrieved.

Groundfish means (1) FMP species as listed in Table 2 to this part.

(2) Target species and the “other species” category, specified annually pursuant to § 679.20(a)(2) (See also the definitions for: License limitation groundfish; CDQ species; and IR/IU species of this section).

* * * * *

Harvest zone codes (see Table 8 to this part).

* * * * *

Incidental catch or incidental species means fish caught and retained while targeting on some other species, but does not include discard of fish that were returned to the sea.

* * * * *

Logbook means Daily Cumulative Production Logbook (DCPL) or Daily Fishing Logbook (DFL) required by § 679.5.

* * * * *

Person means any individual (whether or not a citizen or national of the United States), any corporation, partnership, association, or other entity (whether or not organized, or existing under the laws of any state), and any Federal, state, local, or foreign government or any entity of any such aforementioned governments.

Primary product (see Table 1 to this part).

* * * * *

Product transfer report (PTR) (see § 679.5(g)).

Prohibited species means any of the species of Pacific salmon (Oncorhynchus spp.), steelhead trout (Oncorhynchus mykiss), Pacific halibut (Hippoglossus stenolepis), Pacific herring (Clupea harengus pallasi), king crab, and Tanner crab, caught by a vessel regulated under this part while fishing for groundfish in the BSAI or GOA, unless retention is authorized by other applicable laws, including the annual management measures published in the Federal Register pursuant to § 300.62 of this title.

* * * * *

Representative (see § 679.5(b)).

Reprocessed or rehandled product (see Table 1 to this part).

* * * * *

Sablefish (black cod) means Anoplopoma fimbria. (See also IFQ sablefish; fixed gear sablefish at § 679.31(b); and sablefish as a prohibited species at § 679.24(c)(2)(ii)).

* * * * *

Seabird avoidance gear (see §§ 679.24(e), 679.42(b)(2), and Table 19 to this part).

Set means a string of longline gear, a string of pots, or a group of pots with individual pots deployed and retrieved in the water in a similar location with similar soak time. In the case of pot gear, when the pots in a string are hauled more than once in the same position, a new set is created each time the string is retrieved and re-deployed. A set includes a test set, unsuccessful harvest, or when gear is not working and is pulled in, even if no fish are harvested.

* * * * *

Shoreside processor electronic logbook report (SPELR) (see § 679.5(d)).

* * * * *

Tagged halibut or sablefish(see § 679.40(g)).

* * * * *

Weekly production report (WPR) (see § 679.5(i)).

* * * * *

3. In § 679.4 paragraphs (a)(1) through (a)(6) are redesignated as paragraphs (a)(3) through (a)(8), respectively; paragraph (a) introductory text, paragraphs (a)(1), (a)(2), and (a)(3)(v) are added; and paragraph (a) heading, newly redesignated (a)(3) heading and paragraphs (b)(3), (b)(4)(ii), (b)(5), paragraph (d) heading, (d)(2), the heading of paragraph (d)(3), and paragraphs (d)(3)(i)(A), (f)(2), and (f)(4)(ii) are revised to read as follows:

§ 679.4 Permits.

(a) Requirements. Only persons who are U.S. citizens are authorized to receive or hold permits under this section, with the exception that an IFQ card issued to an individual person designated by a QS or IFQ permit holder as a master employed to fish his/her IFQ need not be held by a U.S. citizen.

(1) What permits are available? Various types of permits are issued for programs codified at 50 CFR part 679. These permits are listed in the following table. The date of effectiveness for each permit is given along with certain reference paragraphs for further information.

If program permit or card type is: | Permit is in effect from issue date through the end of: | For more information, see ..
(i) IFQ |  |
(A) Registered Buyer | Specified fishing year | Paragraph 679.4(d)(2) of this section
(B) Halibut & sablefish permits | Specified fishing year | Paragraph 679.4(d)(3)(i)(B) of this section
(C) Halibut & sablefish cards | Specified fishing year | Paragraph 679.4(d)(3)(i)(C) of this section
(ii) CDQ Halibut |  |
(A) Halibut permit | Specified fishing year | 679.32(f)
(B) Halibut card | Specified fishing year | 679.32(f)
(iii) AFA |  |
(A) Catcher/processor | 12/31/04 | Paragraph (f) of this section
(B) Catcher vessel | 12/31/04 | Paragraph (f) of this section
(C) Mothership | 12/31/04 | Paragraph (f) of this section
(D) Inshore processor | 12/31/04 | Paragraph (f) of this section
(E) Inshore cooperative | Calendar year | Paragraph (f) of this section
(F) Replacement vessel | Takes dates of replaced vessel's permit | Paragraph (f) of this section
(iv) Groundfish |  |
(A) Federal fisheries | Until next renewal cycle | Paragraph (b) of this section
(B) Federal processor | Until next renewal cycle | Paragraph (f) of this section
(v) High seas salmon permit | Indefinite | Paragraph (h) of this section
(vi) High Seas Fishing Compliance Act (HSFCA) | 5 years | § 300.10 of this title
(vii) License Limitation Program (LLP) |  |
(A) Groundfish license | Specified fishing year or interim (active until further notice) | Paragraph (k) of this section
(B) Crab license | Specified fishing year or interim (active until further notice) | Paragraph (k) of this section
(viii) Exempted fisheries | 1 year or less | § 679.6
(ix) Research | 1 year or less | § 600.745(a) of this chapter
(x) Prohibited species donation program |  |
(A) Salmon | 3 years | § 679.26
(B) Halibut | 3 years | § 679.26

(2) Permit and logbook required by participant and fishery. For the various types of permits issued, refer to § 679.5 for recordkeeping and reporting requirements.

(3) Permit application. * * *

(v) All permits are issued free of charge.

* * * * *

(b)* * *

(3) Vessel operations categories.

(i) A Federal fisheries permit authorizes a vessel to conduct operations in the GOA or BSAI as a catcher vessel, catcher/processor, mothership, tender vessel, or support vessel.

(ii) A Federal fisheries permit is issued to a vessel to function as a support vessel or as any combination of the other four categories (catcher vessel, catcher/processor, mothership, tender vessel).

(iii) A vessel permitted as a catcher/processor, catcher vessel, mothership, or tender vessel also may conduct all operations authorized for a support vessel.

(iv) A vessel permitted as a support vessel may not conduct activities as a catcher vessel, catcher/processor, mothership, and/or tender vessel.

(4) * * *

(ii) A Federal fisheries permit is surrendered when the original permit is submitted to and received by the Program Administrator, RAM Program, Juneau, AK.

* * * * *

(5) How do I obtain a Federal fisheries permit? To obtain a Federal fisheries permit, the owner must complete a Federal fisheries permit application and provide the following information for each vessel to be permitted:

(i) New or amended application? Indicate whether application is for a new or amended Federal fisheries permit and if revision, enter the current Federal fisheries permit number.

(ii) Owner information. Indicate the name(s), permanent business mailing address, business telephone number, business FAX number, and business e-mail address of the owner; and the name of any person or company (other than the owner) that manages the operations of the vessel.

(iii) Vessel information. Indicate the vessel name and homeport (city and state); U.S. Coast Guard (USCG) documentation number; ADF&G vessel registration number; ADF&G processor code; vessel's LOA (ft), registered length (ft), gross tonnage, net tonnage, and shaft horsepower; whether this is a vessel of the United States; and whether this vessel will be used as a stationary floating processor.

(iv) Area and gear information. Indicate requested/elected area(s) of operation. If a catcher/ processor and/or a catcher vessel, the gear types used for groundfish fishing. If a mothership or catcher/processor operating in the GOA, choose inshore or offshore component.

* * * * *

(d) IFQ permits. * * *

(2) Registered buyer permit. A Registered buyer permit is required of:

(i) Any person who receives IFQ halibut, CDQ halibut or IFQ sablefish from the person(s) who harvested the fish;

(ii) Any person who harvests IFQ halibut or IFQ sablefish and transfers such fish:

(A) In a dockside sale;

(B) Outside of an IFQ regulatory area; or

(C) Outside the State of Alaska.

(iii) A vessel operator who obtains a vessel clearance or submits a departure report (see § 679.5(l)(5)(iv)).

(3) How do I obtain an IFQ permit, IFQ card, or Registered Buyer Permit? (i)IFQ permits and cards—(A) Issuance. The Regional Administrator will renew IFQ permits and cards annually or at other times as needed to accommodate transfers, revocations, appeals resolution, and other changes in QS or IFQ holdings, and designation of masters under § 679.42.

* * * * *

(f) * * *

(2) How do I obtain a Federal processor permit? To obtain a Federal processor permit, the owner must complete a Federal processor permit application and provide the following information for each shoreside processor facility or plant and stationary floating processor to be permitted:

(i) Permit application information. Indicate whether application is for a new or amended Federal processor permit and if a revision, the current Federal processor permit number.

(ii) Owner information. Indicate the name(s), permanent business mailing address, business telephone number, business FAX number, and business e-mail address of the owner; and the name of any person or company (other than the owner) who manages the operations of the shoreside processor or stationary floating processor.

(iii) Stationary floating processor information. Indicate the vessel name and homeport (city and state); USCG documentation number; ADF&G vessel registration number; ADF&G processor code; the vessel's LOA (ft), registered length (ft), gross tonnage, net tonnage and shaft horsepower; whether this is a vessel of the United States; and whether this vessel will be used as a stationary floating processor.

(iv) Shoreside processor information. Indicate the shoreside processor's name; name and physical location of facility or plant at which the shoreside processor is operating (street, city, state, zip code); whether the shoreside processor is replacing a previous processor at this facility; and if yes, name of previous processor; whether there are multiple processors at this facility; whether the owner named in paragraph (f)(2)(ii) of this section owns this facility; shoreside processor ADF&G processor code, business telephone number, business FAX number, and business e-mail address.

(v) Signature. The owner or agent of the owner of the shoreside processor or stationary floating processor must sign and date the application. If the owner is a company, the agent of the owner must sign and date the application.

* * * * *

(4) * * *

(ii) A Federal processor permit is surrendered when the original permit is submitted to and received by the Program Administrator, RAM Program, Juneau, AK.

* * * * *

4. Section 679.5 is amended by revising paragraphs (a) through (k), (l)(1) through (6), (l)(7)(i)(C)(3)(ii), (l)(7)(i)(D), (l)(7)(i)(C)(4)(i), and (m) through (o) to read as follows:

§ 679.5 Recordkeeping and reporting.

(a) General requirements—(1) Applicability—(i) Who must comply with recordkeeping and reporting requirements? Except as provided in paragraphs (a)(1)(iii) and (iv) of this section, the owner, operator, or manager of the following participants must comply with the recordkeeping and reporting requirements of this section:

(A) Any catcher vessel, mothership, catcher/processor, or tender vessel, 5 net tons or larger, that is required to have a Federal fisheries permit under § 679.4.

(B) Any shoreside processor, stationary floating processor, mothership, or buying station that receives groundfish from vessels issued a Federal fisheries permit under § 679.4.

(C) Any buying station that receives or delivers groundfish in association with a mothership issued a Federal fisheries permit under § 679.4(b) or with a shoreside processor or stationary floating processor issued a Federal processor permit under § 679.4(f).

(D) Any shoreside processor or stationary floating processor that is required to have a Federal processor permit under § 679.4.

(E) For purposes of this section, “operator or manager” means “the operator of a catcher/processor or mothership, the manager of a shoreside processor or stationary floating processor, or the operator or manager of a buying station.”

(ii) What fish need to be recorded and reported? A shoreside processor, stationary floating processor, mothership, or buying station subject to recordkeeping and reporting requirements must report all groundfish and prohibited species received, including:

(A) Fish received from vessels not required to have a federal fisheries permit.

(B) Fish received under contract for handling or processing for another processor.

(iii) Who is exempt from recordkeeping and reporting requirements? (A) Catcher vessels less than 60 ft (18.3 m) LOA. A catcher vessel less than 60 ft (18.3 m) LOA is not required to comply with recordkeeping and reporting requirements contained in paragraphs (a) through (k) of this section.

(B) Catcher vessels that take groundfish in crab pot gear for use as crab bait on that vessel. (1) Owners or operators of catcher vessels who, during open crab season, take groundfish in crab pot gear for use as crab bait on board their vessels, and the bait is neither transferred nor sold, are exempt from Federal recordkeeping and reporting requirements contained in paragraphs (a) through (j) of this section. This exemption does not apply to fishermen who:

(i) Catch groundfish for bait during an open crab season and sell that groundfish or transfer it to another vessel, or

(ii) Participate in a directed fishery for groundfish using any gear type during periods that are outside an open crab season for use as crab bait on board their vessel.

(2) No groundfish species listed by NMFS as “prohibited” in a management or regulatory area may be taken in that area for use as bait.

(iv) Who needs to use the combined groundfish/IFQ logbook? (A) Any catcher vessel 60 ft (18.3 m) or greater LOA or catcher/processor, that participates in an IFQ sablefish fishery, IFQ halibut fishery, or CDQ halibut fishery and that retains any groundfish from the GOA or BSAI, must use a combined groundfish/IFQ logbook (catcher vessel or catcher/processor longline and pot gear logbook) to record all IFQ halibut and sablefish, CDQ halibut, and groundfish.

(B) Any catcher vessel 60 ft (18.3 m) or greater LOA or catcher/processor that is using longline or pot gear in the groundfish fisheries of the GOA or BSAI must use a combined groundfish/IFQ logbook (catcher vessel or catcher/processor longline and pot gear logbook) to record all groundfish.

(2) Responsibility—(i) The operator of a catcher vessel, catcher/processor, mothership, or buying station receiving from a catcher vessel and delivering to a mothership (hereafter referred to as the operator) and the manager of a shoreside processor or buying station receiving from a catcher vessel and delivering to a shoreside processor (hereafter referred to as the manager) are each responsible for complying with the applicable recordkeeping and reporting requirements of this section.

(ii) The owner of a vessel, shoreside processor, stationary floating processor, or buying station is responsible for compliance and must ensure that the operator, manager, or representative (see paragraph (b) of this section) complies with the requirements given in paragraph (a)(3)(i).

(iii) The owner or manager must sign the SPELR printed pages or the owner, operator, or manager must sign the DFL or DCPL as verification of acceptance of the responsibility required in paragraph (a)(2)(i) of this section.

(3) Groundfish logbooks and forms. (i) The Regional Administrator will prescribe and provide groundfish logbooks and forms required under this section for a catcher vessel 60 ft (18.3 m) or greater LOA, a catcher/processor, a mothership, a shoreside processor, a stationary floating processor, and a buying station (see Table 9 to this part).

(ii) The operator or manager must use the current edition of the logbooks and forms or obtain approval from the Regional Administrator to use current electronic versions of the logbooks and forms. Upon notification by the Regional Administrator, logbooks or forms may be used from the previous year.

(4) Shoreside processor electronic logbook report (SPELR). The manager of a shoreside processor or stationary floating processor receiving groundfish from AFA catcher vessels or receiving pollock harvested in a directed pollock fishery is required to use SPELR or NMFS-approved software described at paragraph (e) of this section to report every delivery from all catcher vessels and is required to maintain the SPELR and printed reports as described at paragraph (f) of this section. The owner or manager of a shoreside processor or stationary floating processor that is not required to use SPELR under paragraph (e) of this section may use, upon approval by the Regional Administrator, SPELR or NMFS-approved software in lieu of the shoreside processor DCPL and shoreside processor WPR.

(5) Participant identification information. The operator or manager must record on all required records, reports, and logbooks, as appropriate:

(i) Name and signature. Name and signature of operator or manager.

(ii) Catcher vessel. If a catcher vessel, the name as displayed in official documentation, Federal fisheries permit number and ADF&G vessel registration number.

(iii) Shoreside processor or stationary floating processor. If a shoreside processor or stationary floating processor, the processor name as displayed in official documentation, ADF&G processor code, and Federal processor permit number. If a shoreside processor, the geographic location of plant.

(iv) Mothership or catcher/processor. If a mothership or catcher/processor, the name as displayed in official documentation, ADF&G processor code and Federal fisheries permit number.

(v) Buying station. If a buying station, the name as displayed in official documentation; ADF&G vessel registration number (if a vessel) or vehicle registration number (if a vehicle); name, ADF&G processor code, and Federal fisheries permit number of the associated mothership, or name, geographic location of plant, ADF&G processor code, and Federal processor permit number of the associated shoreside processor or stationary floating processor to which groundfish deliveries were made.

(6) Maintenance of records. The operator or manager must:

(i) Maintain in English all records, reports, and logbooks in a legible, timely, and accurate manner; if handwritten, in indelible ink; if computer-generated, in a printed paper copy; and based on A.l.t.

(ii) Account for each day of the fishing year, January 1 through December 31, in the DFL or DCPL. Unless the appropriate box is checked to indicate an inactive period, records are assumed to be for an active period. Record the first day of the fishing year, January 1, on the first page of the DFL or DCPL. Record time periods consecutively in the logbook.

(A) If a vessel owner or operator is granted reinstatement of a Federal fisheries permit after having surrendered it within the same fishing year, recordkeeping and reporting requirements as defined in this section must be continuous throughout that year, without interruption of records.

(B) If a shoreside processor owner or manager is granted reinstatement of a Federal processor permit after having surrendered it within the same fishing year, recordkeeping and reporting requirements as defined in this section must be continuous throughout that year, without interruption of records.

(C) If inactive due to surrender of a Federal fisheries or processor permit, the operator or manager must mark the inactive box, write “surrender of permit,” and follow complete instructions for recording an inactive period.

(iii) Record in the appropriate report, form, and logbook, when applicable, the date of activity and type of participant as presented in the following table:

(A) Date of activity, as month-day-year.

Date of | If a¹ | Means the date when | In the
(1) Delivery | (i) CV | Delivery of harvest was completed | DFL
| (ii) SS, SFP, MS | Delivery of harvest was completed | DCPL
| (iii) BS | Delivery of harvest was completed | BSR
(2) Landing | SS, SFP | Sorting and weighing of a delivery by species was completed | DCPL
(3) Production | SS, SFP | Production was completed | DCPL
(4) Discard or disposition | (i) CV using longline or pot gear | Discard or disposition occurred | DFL
| (ii) SS, SFP, MS | Discard or disposition occurred at the facility; or Received blue DFL from a catcher vessel (not the actual date of discard or disposition indicated on the blue DFL); or Received BSR from a buying station (not the actual date of discard or disposition indicated on the BSR). | DCPL
¹ CV = Catcher vessel; SS = Shoreside processor; SFP = stationary floating processor; MS = mothership; Catcher/processor = C/P; BS = Buying station

(B) Week-ending date. The last day of the weekly reporting period: 2400 hours, A.l.t., Saturday night (except during the last week of each year, when it ends on December 31).

(C) Time, in military format, A.l.t.

(D) Page numbering. (1) Number the pages in each logbook and BSR consecutively, beginning with page 1 and continuing for the remainder of the fishing year.

(2) If a shoreside processor or stationary floating processor, number the DCPL pages within Part I and Part II separately, beginning with page 1. If in an inactive period, the manager needs only to record in Part I.

(E) Logbook numbering—(1) Two logbooks of same gear type. If more than one logbook of the same gear type is used in a fishing year, the page numbers must follow the consecutive order of the previous logbook.

(2) Two logbooks of different gear types. If two logbooks of different gear types are used in a fishing year, the page numbers in each logbook must start with page 1.

(3) Two logbooks for pair trawl. If two catcher vessels are dragging a trawl between them (pair trawl), two logbooks must be maintained, a separate DFL by each vessel to record the amount of the catch retained and fish discarded by that vessel, each separately paginated.

(F) Original/revised report. Except for a DFL or DCPL, if a report is the first one submitted to the Regional Administrator for a given date, gear type, and reporting area, indicate ORIGINAL REPORT. If a report is a correction to a previously submitted report for a given date, gear type, and reporting area, indicate REVISED REPORT.

(G) Position coordinates, position in lat. and long.

(7) How do you record active/inactive periods and fishing activity? (i) The operator or manager daily must record in the appropriate logbook or SPELR the status of fishing activity as active or inactive according to the following table:

If participant is a ... | Fishing activity is ... | An active period is ... | An inactive period is ...
(A) CV¹ | Harvest or discard of groundfish | When gear remains on the grounds in a reporting area (except 300, 400, 550, or 690), regardless of the vessel location | When no gear remains on the grounds in a reporting area
(B) SS, SFP, MS | Receipt, discard, or processing of groundfish | When checked in or processing | When not checked in or not processing
(C) C/P | Harvest, discard, or processing of groundfish | When checked in or processing | When not checked in or not processing
(D) BS | Receipt, discard, or delivery of groundfish | When conducting fishing activity for an associated processor | When not conducting fishing activity for an associated processor
¹ CV = Catcher vessel; SS = Shoreside processor; SFP = stationary floating processor; MS = mothership; Catcher/processor = C/P; BS = Buying station

(ii) The operator or manager daily must record in the appropriate logbook or SPELR if no activity occurred according to the following table:

The operator or manager must enter: | In the ... | If ...
(A) No receipt | (1)DCPL | No deliveries received for a day
| (2)DCPL, WPR | No deliveries received during a weekly reporting period
(B) No landings | (1)DCPL, DPR | No landings occurred for a day
| (2) DCPL, WPR | No landings occurred during a weekly reporting period
(C) No production | (1) DCPL, DPR | No production occurred for a day
| (2) DCPL, WPR | No production occurred for a weekly reporting period
(D) No discard or Disposition | (1)DCPL, DFL, BSR or DPR | No discards or dispositions occurred for a day
| (2) DCPL, WPR | No discards or dispositions occurred for a weekly reporting period

(iii) The operator or manager daily must record whether active or inactive in the appropriate logbook or SPELR according to the following table:

(A) Active. If active, complete a separate logsheet for each day (except a shoreside processor, stationary floating processor, catcher vessel longline or pot gear, or catcher/processor longline or pot gear).

(B) Inactive. If inactive, complete on one logsheet:

(1) Check “inactive.”

(2) Record the date of the first day when inactive under “Start date”

(3) Indicate brief explanation that you are inactive.

(4) Record the date of the last day when inactive under “End date.”

(C) Inactive two or more quarters. If the inactive time period extends across two or more successive quarters, the operator or manager must complete two logsheets: the first logsheet to indicate the first and last day of the first inactive quarter and the second logsheet to indicate the first and last day of the second inactive quarter.

(D) Participant information if inactive. On each logsheet used to record an inactive period, the operator or manager must record the participant information as described at paragraph (a)(8) of this section.

(iv) Weight of fish. When recording weight in a logbook or form, the operator or manager must follow the guidelines in the tables in paragraphs (a)(7)(iv)(C) and (D) and (a)(7)(iv)(F)through (I) of this section and must:

(A) Indicate whether records of weight are in pounds or metric tons.

(1) If using a DFL, DCPL, BSR, or shoreside processor check-in report or check-out report, record weight in pounds or in metric tons to the nearest 0.001 mt, but be consistent throughout the year.

(2) If using a WPR or DPR, record weight in metric tons to the nearest 0.001.

(B) Record the weight of groundfish landings, groundfish product, and groundfish or prohibited species Pacific herring discard or disposition weight by species codes as defined in Table 2 to this part and product codes and product designations as defined in Table 1 to this part. Except for product information provided by shoreside processors or stationary floating processors [which is the sum of product weight separately by BSAI or GOA management area], the operator or manager must summarize groundfish weights separately by reporting area, management program information, gear type, and if trawl gear used, whether harvest was caught in the CVOA or the COBLZ.

(C) Daily catch weight. The operator or manager must enter daily catch weight per the following table:

Enter ... | In a ... | If a ...
(1) Estimated total round catch weight of groundfish, listed by CV or BS | DCPL | SS, SFP
(2) Estimated total round catch weight of groundfish by haul | Trawl DFL | CV
(3) Estimated total round catch weight of groundfish by haul, excluding pollock and Pacific cod | Trawl DCPL | C/P
(4) Estimated total round catch weight of groundfish listed by CV or BS, excluding pollock and Pacific cod | DCPL | MS
(5) Estimated total round catch weight of groundfish by set, excluding CDQ/IFQ Pacific halibut and IFQ sablefish | Longline or pot DFL | CV
(6) Estimated total round catch weight of groundfish by set, excluding CDQ/IFQ Pacific halibut, IFQ sablefish, pollock and Pacific cod | Longline or pot DCPL | C/P
(7) If a CV reported discards on a blue DFL but did not deliver groundfish, enter “0" in this column. | (i) DCPL | MS, SS, SFP
| (ii) BSR | BS

(D) Daily landings weight. The operator or manager must enter daily landings weight per the following table:

Enter... | In a ... | If a ...
(1) Obtain actual weights for each groundfish species received and retained by: Sorting according to species codes and direct weighing of that species, or weighing the entire delivery and then sorting and weighing some or all of the groundfish species individually to determine their weight. | DCPL, DPR | SS, SFP
(2) Record daily combined scale weights of landings by species and product codes. | DCPL, DPR | SS, SFP

(E) Daily product weight. The operator or manager of a SS, SFP, MS, or C/P must enter total daily fish product weight or actual scale weight of fish product by species and product codes in the DCPL and DPR.

(F) Daily discard or disposition weight and number. The operator or manager must enter daily discard or disposition weight and number per the following table:

Enter ... | In a ... | If a ...
(1) The daily estimated total weight of discards or disposition for Pacific herring and each groundfish species or species group | DCPL, DFL, BSR, ADF&G fish ticket | CV, BS, SS, SFP, MS, C/P
(2) The daily estimated numbers of whole fish discards or disposition of prohibited species Pacific salmon, steelhead trout, Pacific halibut, king crabs, and Tanner crabs. | DCPL, DFL, BSR, ADF&G fish ticket | CV, BS, SS, SFP, MS, C/P

(G) Balance brought forward. The operator or manager must enter the balance brought forward per the following table:

Enter ... | In a ... | If a ...
(1) The total product balance brought forward from the previous day | DCPL | MS, C/P
(2) The total estimated discards or disposition balance brought forward from the previous day | DFL, DCPL | CV, MS, C/P

(H) Zero balance. The operator or manager must enter zero balance per the following table:

Record weights as zero ... | In a ... | If a ...
(1) After the offload or transfer of all fish or fish product onboard and prior to the beginning of each fishing trip. | DFL | CV
(2) After the offload or transfer of all fish or fish product onboard, if such offload occurs prior to the end of a weekly reporting period. Nothing shall be carried forward. | DCPL | MS, C/P
(3) At the beginning of each weekly reporting period. Nothing shall be carried forward from the previous weekly reporting period. | DCPL | MS, C/P

(I) Cumulative totals. The operator or manager must enter cumulative totals per the following table:

Enter ... | In a ... | If a ...
(1) Weekly cumulative totals, calculated by adding the daily totals and balance carried forward | DCPL, WPR | MS, C/P
(2) Weekly cumulative totals, calculated by adding the daily totals | DCPL, WPR | SS, SFP
(3) Cumulative total discards or disposition since last delivery, calculated by adding the daily totals and balance carried forward from the day before. | DFL | CV

(v) Numbers of fish. The operator or manager must record the estimated numbers of whole fish discards or disposition of prohibited species Pacific salmon, steelhead trout, Pacific halibut, king crabs, and Tanner crabs.

(vi) Species codes. To record species information for federally managed groundfish, the operator or manager must use Table 2 to this part to determine species codes.

(vii) Product codes and product designations. To record product information for federally managed groundfish, the operator or manager must use Table 1 to this part to determine product codes and product designations.

(viii) Target codes. To record target species information for federally managed groundfish, the operator or manager must use Table 2 to this part to determine species codes. Target species may be recorded as primary and secondary.

(ix) Gear type information. If a catcher vessel or catcher/processor using longline or pot gear, the operator must enter:

(A) The gear type used used to harvest the fish and appropriate “gear ID”.

(B) If gear information is the same on subsequent pages, check the appropriate box instead of re-entering the information.

(C) A description of the gear per the following table:

If gear type is ... | Then enter ...
(1) Pot | Number of pots set
(2) Hook-and-line | (i) Check the appropriate box to indicate whether gear is fixed hook (conventional or tub), autoline, or snap (optional, but may be required by IPHC regulations).
| (ii) Length of skate to the nearest foot (optional, but may be required by IPHC regulations).
| (iii) Size of hooks, hook spacing in feet, and number of hooks per skate (optional, but may be required by IPHC regulations).
| (iv) Number of skates set
| (v) Number of skates lost (if applicable) (optional, but may be required by IPHC regulations).
(3) Longline | Bird avoidance gear code (see Table 19 to this part)

(x) Separate logsheet, WPR, check-in/check-out report. The operator or manager must use a separate page (logsheet, WPR, check-in/check-out report) to record information as described in paragraphs (x)(A) through (E) of this section:

(A) For each day of an active period, except shoreside processor or stationary floating processors may use one logsheet for each day of an active period or use one logsheet for up to 7 days.

(B) If harvest from more than one reporting area.

(C) If harvest from COBLZ or RKCSA within a reporting area (see paragraph (a)(7)(xii)). Use two separate logsheets, the first to record the information from the reporting area that includes COBLZ or RKCSA, and the second to record the information from the reporting area that does not include COBLZ or RKCSA.

(D) If harvest with more than one gear type.

(E) If harvest under a separate management program. If harvest for more than one CDQ group, use a separate logsheet for each CDQ group number.

(xi) Reporting area. The operator or manager must record the reporting area code (see Figures 1 and 3 to this part) where gear retrieval (see § 679.2) was completed, regardless of where the majority of the set took place. Record in the DFL, BSR, DCPL, SPELR, WPR, DPR, and mothership or catcher/processor check-in/check-out report.

(xii) Areas within a reporting area. If harvest was caught using trawl gear, the operator or manager must indicate whether fishing occurred in the COBLZ or RKCSA:

| Area | Reference
(A) COBLZ | BSAI C. opilio Bairdi Bycatch Limitation Zone | Figure 13 to this part
(B) RKCSA | Red King Crab Savings Area | Figure 11 to this part

(xiii) Observer information. Record the number of observers aboard or on site, the name of the observer(s), and the observer cruise number(s) in the DFL and DCPL. If a shoreside processor or stationary floating processor, record also the dates present for each observer.

(xiv) Number of crew or crew size. Record the number of crew, excluding certified observer(s), on a mothership or catcher/processor WPR and in the BSR; on the last day of the weekly reporting period in a mothership or catcher/processor DCPL; and in the DFL on the last day of a trip for a catcher vessel.

(xv) Management program. Indicate whether harvest occurred under one of the listed management programs in a DFL, BSR, DCPL, SPELR, WPR, DPR, or check-in/check-out report. If harvest is not under one of these management programs, leave blank.

If harvest made under ... program | Indicate yes and record the... | Reference
(A) CDQ | CDQ group number | Subpart C to part 679
(B) Exempted Fishery | Exempted fishery permit number | § 679.6
(C) Research | Research program permit number | § 600.745(a) of this chapter
(D) IFQ | IFQ permit number(s) | Subpart D to part 679
(E) AFA | AFA Cooperative account number ONLY for landings from the directed pollock fishery that are counting against the coop quota. (Other species delivered at the same time can go on the same report.) | § 679.5(e)

(8) Landings information—(i) Requirement. The manager of a shoreside processor or stationary floating processor must record landings information for all retained species from groundfish deliveries.

(A) If recording in DCPL, or DPR, enter date of landing and daily weight and weekly cumulative weight by species code and product code.

(B) If recording in WPR, enter weekly cumulative weight by species code and product code.

(ii) Landings as product. If a shoreside processor or stationary floating processor receives groundfish, records them as landings in Part IB of the DCPL, and transfers these fish to another processor without further processing, the manager must also record the species code, product code, and weight of these fish in Part II of the DCPL prior to transfer.

(9) Product information—(i) Requirement. The operator of a catcher/processor or mothership or the manager of a shoreside processor or stationary floating processor must record groundfish product information for all retained species from groundfish deliveries.

(A) If recording in DCPL or DPR, enter date of production (shoreside processor or stationary floating processor only); daily weight, balance forward (except shoreside processor or stationary floating processor), and weekly cumulative weight by species code, product code, and product designation.

(B) If recording in WPR, enter weekly cumulative weight by species code, product code, and product designation.

(ii) Custom processing. The operator of a catcher/processor or mothership or the manager of a shoreside processor or stationary floating processor must record products that result from custom processing by you for another processor. If you receive unprocessed or processed groundfish to be handled or processed for another processor or business entity, enter these groundfish in a DCPL and a WPR consistently throughout a fishing year using one of the following two methods:

(A) Combined records. Record landings (if applicable), discards or dispositions, and products of contract-processed groundfish routinely in the DCPL, SPELR, WPR, and DPR without separate identification; or

(B) Separate records. Record landings (if applicable), discards or dispositions, and products of custom-processed groundfish in a separate DCPL, WPR, and DPR identified by the name, Federal processor permit number or Federal fisheries permit number, and ADF&G processor code of the associated business entity.

(10) Discard or disposition information—(i) Shoreside processor, stationary floating processor, mothership—(A) DCPL or DPR. (1) Except as described in paragraph (a)(10)(v) of this section, the manager of a shoreside processor or stationary floating processor, and the operator of a mothership must record in a DCPL and DPR, discard or disposition information that occurred on and was reported by a catcher vessel, that occurred on and was reported by a buying station, and that occurred prior to, during, and after production of groundfish.

(2) Discard or disposition information must include: Date of discard or disposition (only shoreside processor or stationary floating processor); daily weight of groundfish; daily weight of Pacific herring PSC; daily number of PSC animals; balance forward (except shoreside processor or stationary floating processor); and weekly cumulative weight of groundfish and herring PSC; weekly cumulative number of PSC animals; species codes and product codes.

(B) WPR. The manager of a shoreside processor or stationary floating processor, and the operator of a mothership must record in a WPR, discard or disposition information to include: week-ending date; weekly cumulative weight of groundfish and herring PSC; and weekly cumulative number of PSC animals by species code and product code.

(ii) Catcher/processor—(A) DCPL or DPR. (1) The operator of a catcher/processor must record in a DCPL and DPR, discard or disposition information that occurred prior to, during, and after production of groundfish.

(2) Discard or disposition information must include: Daily weight of groundfish; daily weight of herring PSC; daily number of PSC animals, balance forward, and weekly cumulative weight of groundfish and herring PSC; and weekly cumulative number of PSC animals by species code and product code.

(B) WPR. The operator of a catcher/processor must record in a WPR, discard or disposition information to include: Week-ending date; weekly cumulative weight of groundfish and herring PSC; and weekly cumulative number of PSC animals by species code and product code.

(iii) Buying station. The operator or manager of a buying station must record in a BSR discard or disposition information that occurred on and was reported by a catcher vessel and that occurred on and prior to delivery to an associated processor. Discard or disposition information must include: daily weight of groundfish, daily weight of herring PSC, and daily number of PSC animals by species code and product code.

(iv) Catcher vessel. Except as described in paragraph (a)(10)(v) of this section, the operator of a catcher vessel must record in a DFL discard or disposition information that occurred on and prior to delivery to a buying station, mothership, shoreside processor, or stationary floating processor. Discard or disposition information must include daily weight of groundfish, daily weight of herring PSC, and daily number of PSC animals by species code and product code.

(v) Exemption: Catcher vessel unsorted codends. If a catcher vessel is using trawl gear and deliveries to a mothership, shoreside processor, stationary floating processor, or buying station are of unsorted codends, the catcher vessel is exempt from recording discards in the DFL and from submittal of the blue DFL for that delivery.

(vi) Discard quantities over maximum retainable amount. When fishing in an IFQ fishery and the fishery for Pacific cod or rockfish is closed to directed fishing but not in PSC status in that reporting area as described in § 679.20, the operator must retain and record up to and including the maximum retainable amount for Pacific cod or rockfish as defined in Table 10 or 11 to this part; quantities over this amount must be discarded and recorded as discard in the logbook.

(vii) Discard or disposition logbook recording time limits. The operator or manager must record discards and disposition information in the logbook within the time limits given in the following table:

If participant type is a¹ ... | Record information ...
(A) MS,SS,SFP | By noon each day to record the previous day's discard/disposition that:
| (1) Occurs on site after receipt of groundfish from a CV or BS;
| (2) Occurs during processing of groundfish received from a CV or BS.
| (3) Was reported on a blue DFL received from a CV delivering groundfish;
| (4) Was reported on a BSR received from a BS delivering groundfish, if different from blue DFL
(B) CV, C/P | By noon each day to record the previous day's discard/disposition.
(C) BS | By noon each day to record the previous day's discard/disposition that:
| (1) Was reported on a blue DFL received from a CV delivering groundfish.
| (2) Occurs on BS after receipt of harvest from a CV.
| (3) Occurs prior to delivery of harvest to a MS, SS, or SFP.
¹ CV = Catcher vessel; SS = Shoreside processor; SFP = Stationary floating processor; MS = mothership; Catcher/processor = C/P; BS = Buying station

(11) Delivery information—(i) Mothership, shoreside processor or stationary floating processor. The operator of a mothership or manager of a shoreside processor or stationary floating processor must record delivery information in a DCPL or SPELR when unprocessed groundfish deliveries are received from a buying station or a catcher vessel. Discards and dispositions also must be recorded when no groundfish are delivered but the blue DFL is submitted by a catcher vessel containing records of groundfish discards or disposition (e.g., an IFQ fish delivery with groundfish incidental catch).

(ii) Buying station. (A) The operator or manager of a buying station must record delivery information in a BSR when unprocessed groundfish deliveries are received from a catcher vessel. Discards and dispositions also must be recorded when no groundfish are delivered but the blue DFL is submitted by a catcher vessel containing records of groundfish discards or disposition (e.g., an IFQ fish delivery with groundfish incidental catch).

(B) In addition, a catcher vessel operator by prior arrangement with a processor may function as a buying station for his own catch by: Shipping his groundfish catch with a copy of the BSR directly to that processor via truck or airline in the event that the processor is not located where the harvest is offloaded; or by driving a truck that contains his catch and a copy of the BSR to the processor. When the shipment arrives at the processor, the information from the BSR must be incorporated by the manager of the shoreside processor or stationary floating processor into the DCPL.

(iii) Required delivery information, Mothership, shoreside processor, stationary floating processor, or buying station—(A) Date of delivery. Enter date of delivery.

(B) CV or BS. If a mothership, shoreside processor, or stationary floating processor, the manager or operator must:

(1) Enter CV or BS to indicate delivery from catcher vessel or buying station, respectively.

(2) If delivery is from a buying station, keep the BSR for each delivery on file throughout the fishing year and for 3 years after the end of the fishing year.

(C) Receive discard report. Indicate whether the blue DFL was received from the catcher vessel at the time of catch delivery. If delivery from a buying station, leave this column blank. If the blue DFL is not received from the catcher vessel, enter NO and the response code (example: NO-L) to describe the reason for non-submittal as follows:

If blue DFL not submitted by catcher vessel, record number followed by ... | To indicate the catcher vessel
(1) P | Does not have a Federal fisheries permit
(2) P | Is under 60 ft (18.3 m) LOA and does not have a Federal fisheries permit
(3) L | Is under 60 ft (18.3 m) LOA and has a Federal fisheries permit
(4) U | Delivered an unsorted codend
(5) O | Other. Describe.

(D) Name and ADF&G vessel registration number (if applicable) of the catcher vessel or buying station delivering the groundfish;

(E) Time (A.l.t.) when receipt of groundfish delivery was completed;

(F) Mothership begin position. If a mothership, the mothership's begin position coordinates when receiving the groundfish delivery;

(G) ADF&G fish ticket numbers. (1) If a mothership, shoreside processor, or stationary floating processor and receiving unprocessed groundfish from a catcher vessel, record in the DCPL and WPR the ADF&G fish ticket number issued to each catcher vessel; if receiving unprocessed groundfish from an associated buying station, record in the DCPL and WPR the ADF&Gfish ticket numbers issued by the buying station to the catcher vessel.

(2) If a buying station and receiving unprocessed groundfish from a catcher vessel, record in the BSR the ADF&G fish ticket numbers issued to each catcher vessel.

(H) Fish ticket numbers, state other than Alaska. If a shoreside processor located in a state other than Alaska and receiving unprocessed groundfish from a catcher vessel, record in the DCPL and WPR the fish ticket numbers issued for that non-Alaska state along with the two-character abbreviation for that state.

(I) Catch receipt numbers, state other than Alaska. If a shoreside processor located in a state other than Alaska where no fish ticket system is available and receiving unprocessed groundfish from a catcher vessel, record in the DCPL the catch receipt number issued to the catcher vessel.

(iv) Catcher vessel using trawl gear. If a catcher vessel using trawl gear, indicate whether sorting of codend onboard or bleeding from a codend occurred prior to delivery to a mothership, shoreside processor, stationary floating processor, or buying station. If delivery is an unsorted codend, see paragraph (a)(10)(v) of this section. Delivery information required: The delivery date; the ADF&G fish ticket number(s) received for delivery; and recipient's name and ADF&G processor code.

(v) Catcher vessel using longline or pot gear. If IFQ delivery, information required: the delivery date; the ADF&G fish ticket number(s) received at delivery; name of IFQ Registered Buyer receiving harvest; name of unloading port (see paragraph (l)(5)(vii) of this section and Table 14 to this part) or landing location. If non-IFQ delivery, information required: the delivery date; the ADF&G fish ticket number(s) received at delivery; name of recipient receiving harvest; name of unloading port (see Table 14 to this part) or landing location.

(12) Alteration of records. (i) The operator, manager, or any other person may not alter or change any entry or record in a logbook, except that an inaccurate or incorrect entry or record may be corrected by lining out the original and inserting the correction, provided that the original entry or record remains legible. All corrections must be made in ink.

(ii) No person except an authorized officer may remove any original page of any logbook.

(13) Inspection and retention of records—(i) Inspection. The operator of a catcher vessel, catcher/processor or mothership, the manager of a shoreside processor or stationary floating processor, or the operator or manager of a buying station must make all logbooks, reports, forms, and mothership-issued fish tickets required under this section available for inspection upon the request of an authorized officer for the time periods indicated in paragraph (a)(13)(ii) of this section.

(ii) Retention of records. The operator or manager must retain logbooks and forms as follows:

(A) On site. On site at the shoreside facility or onboard the vessel until the end of the fishing year during which the records were made and for as long thereafter as fish or fish products recorded in the logbooks and forms are retained.

(B) For 3 years. Make them available upon request of an authorized officer for 3 years after the end of the fishing year during which the records were made.

(14) Submittal and distribution of logbooks and forms—(i) Submittal of forms. The operator or manager must submit to NMFS the check-in report, check-out report, VAR, WPR, DPR, and PTR (see Table 9 to this part), as applicable, by:

(A) Faxing the NMFS printed form to the FAX number on the form; or

(B) Telexing a data file to the telex number on the form.

(C) Transmitting a data file with required information and forms to NMFS by e-mail, modem, or satellite (specifically INMARSAT standards A, B, or C).

(D) With the approval of the Regional Administrator, using the voluntary electronic reporting format for the check-in report, check-out report, WPR, and SPELR.

(ii) Logbook copy sets. (A) The copy sets of each logbook are described in the following table:

Type of logbook | Copy sets
(1) Catcher vessel longline and pot gear DFL | White, blue, green, yellow, goldenrod
(2) Catcher vessel trawl gear DFL | White, blue, yellow, goldenrod
(3) Catcher/processor longline and pot gear DCPL | White, green, yellow, goldenrod
(4) Catcher/processor trawl gear DCPL | White, yellow, goldenrod
(5) Mothership DCPL | White, yellow, goldenrod
(6) Shoreside processor DCPL | White, yellow, goldenrod

(B) [Reserved]

(iii) Logsheet distribution. The logsheet distribution is described in the following table:

If logsheet is ... | Then, the operator or manager must...
(A) White | Retain, permanently bound in the logbook.
(B) Yellow | Submit quarterly to: NOAA Office of Enforcement, Alaska Region Logbook Program, P.O.Box 21767 Juneau, AK 99802-1767
| on the following schedule: 1st quarter by May 1 of that fishing year 2nd quarter by August 1 of that fishing year 3rd quarter by November 1 of that fishing year 4th quarter by February 1 of the following fishing year
(C) Blue | (1) Catcher vessel. Except when delivering an unsorted codend (see paragraph (a)(10)(vi) of this section), submit to the buying station, mothership, shoreside processor or stationary floating processor that receives the harvest.
| (2) Buying station. Submit upon delivery of catch to an associated mothership, shoreside processor, or stationary floating processor any blue DFL received from catcher vessels delivering groundfish to the buying station.
(D) Green | Longline and pot gear DFL and DCPL. To support a separate IFQ data collection by the IPHC under the joint NMFS/IPHC logbook program; check with the IPHC for submittal and retention requirements.
(E) Goldenrod | Submit to the observer onboard or onsite after the logsheet is signed by the operator or manager.

(iv) Logbook time limits. The following table displays the responsibilities of the operator or manager to submit the identified logsheet within a specified time limit:

BILLING CODE 3510-22-S

(15) IFQ/groundfish transfer document comparison. When the operator or manager is participating in both the groundfish fisheries and the IFQ fisheries, certain exceptions to submittal of product shipment and transfer forms are provided to avoid duplication. In the following table, an “X” indicates submittal requirements under those circumstances.

BILLING CODE 3510-22-C

(b) Representative. (1) The operator of a catcher vessel, mothership, catcher/processor, or buying station delivering to a mothership or manager of a shoreside processor or stationary floating processor or buying station delivering to a shoreside processor or stationary floating processor may identify one contact person to complete the logbook and forms and to respond to inquiries from NMFS. Designation of a representative under this paragraph does not relieve the owner, operator, or manager of responsibility for compliance under paragraph (a)(2) of this section.

(2) Except for a DFL, BSR, PTR, or DCPL, the operator or manager must provide the following representative identification information: The representative's name; daytime business telephone number (including area code); and FAX or telex number. In addition, if completing a DPR, a VAR, or a mothership or catcher/processor check-in/check-out report, the representative's COMSAT number.

(c) Catcher vessel DFL and catcher/processor DCPL—(1) Longline and pot DFL and DCPL. In addition to information required at paragraphs (a) and (b) of this section, the operator of a catcher vessel or a catcher/processor using longline or pot gear to harvest groundfish or the operator of a catcher vessel or a catcher/processor using longline or pot gear to harvest IFQ sablefish or IFQ halibut must record in the DFL or DCPL:

(i) Gear type;

(ii) IFQ permit number of the operator, if any, and of each IFQ holder aboard the vessel;

(iii) Groundfish CDQ group number;

(iv) Halibut CDQ permit number;

(v) The set number, sequentially by year;

(vi) Date, time, and begin position coordinates of gear deployment;

(vii) Begin and end buoy or bag numbers (optional, but may be required by IPHC regulations);

(viii) Date, time, and end position coordinates of gear retrieval;

(ix) Begin and end gear depths, recorded to the nearest fathom (optional, but may be required by IPHC regulations);

(x) Number of skates or pots set;

(xi) Number of skates or pots lost (optional, but may be required by IPHC regulations);

(xii) Target species code;

(xiii) Estimated catch weight of IFQ halibut and CDQ halibut to the nearest pound, indicate “CDQ” above the amount of CDQ halibut;

(xiv) Estimated weight of IFQ sablefish to the nearest pound;

(xv) Indicate whether IFQ sablefish product is Western cut, Eastern cut, or round weight;

(xvi) Number of sablefish;

(xvii) The bird avoidance gear code;

(xviii) If a catcher/processor, enter separately the round catch weight of pollock and Pacific cod to the nearest pound or metric ton and the estimated total round catch weight of all retained species combined, except sablefish, halibut, pollock and Pacific cod to at least the nearest 0.001 mt; and

(xix) If a catcher vessel, the estimated total round catch weight of all species combined, except sablefish and halibut.

(2) Trawl gear DFL and DCPL. In addition to information required at paragraphs (a) and (b) of this section, the operator of a catcher vessel or a catcher/processor using trawl gear to harvest groundfish must record in the DFL or DCPL:

(i) Whether nonpelagic trawl or pelagic trawl;

(ii) Haul number, sequentially by year;

(iii) Time and begin position coordinates of gear deployment;

(iv) Date, time, and end position coordinates of gear retrieval;

(v) Average sea depth and average gear depth, recorded to the nearest meter or fathom and whether depth recorded in meters or fathoms;

(vi) Target species code;

(vii) If a catcher/processor, enter separately the round catch weight of pollock, Pacific cod, and the estimated total round catch weight of all retained species, except Pacific cod and pollock, and indicate whether weight is recorded to the nearest pound or metric ton;

(viii) If a catcher vessel, enter the estimated total round catch weight of all retained species.

(d) Buying station report (BSR)—(1) In addition to information required at paragraphs (a) and (b) of this section, the operator or manager of a buying station must:

(i) Enter on each BSR the name, ADF&G processor code, and Federal fisheries or processor permit number of its associated processor, date delivery completed, and time delivery completed;

(ii) Record each delivery of unprocessed groundfish or donated prohibited species to an associated processor on a separate BSR.

(iii) Ensure that a BSR, along with any blue DFLs received from a catcher vessel, accompanies each groundfish delivery from the landing site to the associated processor.

(iv) Retain a copy of each BSR.

(v) In addition to recording the total estimated delivery weight or actual scale weight of a catcher vessel delivery, the operator or manager of a buying station may enter specific species codes and weights (in lb or mt) to the BSR.

(2) The operator or manager must record all information required and sign the BSR within 2 hours of completion of delivery from catcher vessel.

(e) Shoreside processor electronic logbook report (SPELR). (1) The owner or manager must use SPELR or NMFS-approved software for the duration of the fishing year to report every delivery, including but not limited to groundfish from AFA catcher vessels and pollock from a directed pollock fishery participant, from all catcher vessels and maintain the SPELR and printed reports as described at paragraph (f) of this section, if a shoreside processor or stationary floating processor:

(i) Receives groundfish from AFA catcher vessels; or

(ii) Receives pollock harvested in a directed pollock fishery.

(2) The owner or manager of a shoreside processor or stationary floating processor that is not required to use SPELR under paragraph (e)(1) of this section may use, upon approval by the Regional Administrator, SPELR or NMFS-approved software in lieu of the shoreside processor DCPL and shoreside processor WPR. Processors using the SPELR must maintain the SPELR and printed reports as described in this paragraph (e) and at paragraph (f) of this section.

(3) Exemptions. The owner or manager who uses the SPELR per paragraphs (e)(1) and (2) of this section is exempt from the following requirements:

(i) Maintain shoreside processor DCPL.

(ii) Submit quarterly DCPL logsheets to NOAA Fisheries, Office for Law Enforcement (OLE), Juneau, as described at paragraph (a)(14)(iii) of this section.

(iii) Maintain and submit WPRs to the Regional Administrator as described at paragraph (i) of this section.

(iv) If receiving deliveries of fish under a CDQ program, submit CDQ delivery reports to the Regional Administrator as described at paragraph (n)(1) of this section.

(4) Time limit and submittal. (i) The SPELR must be submitted daily to NMFS as an electronic file. A dated return-receipt will be generated and sent by NMFS to the processor confirming receipt and acceptance of the report. The owner or manager must retain the return receipt as proof of report submittal. If an owner or manager does not receive a return receipt from NMFS, the owner or manager must contact NMFS within 24 hours for further instruction on submittal of SPELRs.

(ii) Daily information described at paragraph (e)(6) of this section must be entered into the SPELR each day on the day they occur.

(iii) Except as indicated in paragraph (e)(4)(iv) of this section, information for each delivery described at paragraph (e)(7) of this section must be submitted to the Regional Administrator by noon of the following day for each delivery of groundfish.

(iv) If a shoreside processor or stationary floating processor using the SPELR or equivalent software is not taking deliveries over a weekend from one of the AFA-permitted catcher vessels listed on NMFS Alaska Region web page at http://www.fakr.noaa.gov/ram the SPELR daily report may be transmitted on Monday.

(5) Information entered once (at software installation) or whenever it changes. The owner or manager must enter the following information into the SPELR when software is installed or whenever any of the information changes:

(i) Shoreside processor or stationary floating processor name, ADF&G processor code, Federal processor permit number, and processor e-mail address;

(ii) State port code as described in Table 14 to this part;

(iii) Name, telephone and FAX numbers of representative.

(6) Information entered daily. The owner or manager must daily enter the following information into the SPELR:

(i) Whether no deliveries or no production;

(ii) Number of observers on site;

(iii) Whether harvested in BSAI or GOA;

(iv) Product by species code, product code, and product designation;

(v) Product weight (in lb or mt).

(7) Information entered for each delivery. The owner or manager must enter for each delivery the following information into the SPELR:

(i) Date fishing began; delivery date; vessel name and ADF&G vessel registration number; ADF&G fish ticket number of delivery; management program name and identifying number (if any); gear type of harvester; landed species of each delivery by species code, product code, and weight (in pounds or mt); ADF&G statistical area(s) where fishing occurred and estimated percentage of total delivered weight corresponding to each area; and whether delivery is from a buying station.

(ii) If delivery received from a buying station, indicate name and type of buying station (vessel, vehicle, or other); date harvest received by buying station; if a vessel, ADF&G vessel registration number; if a vehicle, license plate number; if other than a vessel or vehicle, description.

(iii) Whether a blue DFL was received from catcher vessel; if not received, reason given; discard or disposition species; if groundfish or PSC herring, enter species code, product code, and weight (in pounds or mt); if PSC halibut, salmon, or crab, enter species code, product code, and count (in numbers of animals).

(iv) If a CDQ delivery, enter species code, product code, weight (in pounds or mt) and count of PSQ halibut.

(f) SPELR printed reports—(1) Requirement—(i) Daily printouts. The manager daily must print onsite at the shoreside processor or stationary floating processor two reports: a shoreside logbook daily production report and a delivery worksheet using pre-determined formats generated by the SPELR or NMFS-approved software.

(ii) Signature. The owner or manager of the shoreside processor or stationary floating processor must sign and enter date of signature onto each SPELR printed report. The signature of the owner or manager on SPELR printed reports is verification of acceptance of the responsibility required in paragraphs (e) and (f) of this section.

(iii) Delivery worksheet. The Delivery Worksheet results from a SPELR or NMFS-approved pre-determined format of the data; it summarizes daily landings and discards.

(iv) Shoreside logbook daily production report. The Shoreside Logbook Daily Production Report results from a SPELR or NMFS-approved pre-determined format of the data; it summarizes daily production.

(2) Retention. The manager must retain the paper copies of the reports described in paragraph (f)(1) of this section as follows:

(i) Onsite. Onsite at the shoreside processor or stationary floating processor until the end of the fishing year during which the reports were made and for as long thereafter as fish or fish products recorded in the reports are retained.

(ii) For 3 years. For 3 years after the end of the fishing year during which the reports were made.

(3) Inspection. The owner or manager must make available the reports described in paragraph (f)(1) of this section upon request of observers, NMFS personnel, and authorized officers.

(g) Groundfish Product Transfer Report (PTR). (1) Except as provided in paragraphs (g)(1)(i) through (iv) of this section, the operator of a mothership or catcher/processor or the manager of a shoreside processor or stationary floating processor must record on a separate PTR each transfer of groundfish product (including unprocessed fish) or donated prohibited species.

(i) Exemption: Bait sales. The operator or manager may aggregate individual sales or transfers of groundfish to vessels for bait purposes during a day onto one PTR when recording the amount of such bait product leaving a facility that day. If transfer is a daily aggregation of bait sales, enter “BAIT SALES” in the “RECEIVER” box and enter the time of the first sale of the day and the time of the last sale of the day.

(ii) Exemption: Over-the-counter groundfish sales. (A) The operator or manager daily may aggregate and record on one PTR, individual over-the-counter sales of groundfish for human consumption, where each sale weighs less than 10 lb (0.0045 mt), when recording the amount of such over-the-counter product leaving a facility that day.

(B) If a PTR records a daily aggregation of over-the-counter product sales, enter “OVER-THE-COUNTER SALES” in the “RECEIVER” box. Enter the time of the first sale of the day and the time of the last sale of the day.

(iii) Exemption: Wholesale sales. (A) The operator or manager may aggregate and record on one PTR, wholesale sales of groundfish by species when recording the amount of such wholesale product leaving a facility that day, if invoices detailing destinations for all of the product are available for inspection by an authorized officer.

(B) If a PTR records a daily aggregation of wholesale product sales, enter “WHOLESALE SALES” in the “RECEIVER” box. Enter the time of the first sale of the day and enter the time of the last sale of the day.

(iv) Exemption: IFQ Registered Buyer permit and IFQ or CDQ sablefish product. If the operator or the manager possesses a Registered Buyer permit issued per § 679.4(d)(2), the operator or manager is not required to submit a PTR to document shipment of IFQ or CDQ sablefish product. However, a shipment report as described at paragraph (l)(3) of this section is required for each shipment of IFQ or CDQ sablefish product.

(2) Time limits and submittal. The operator of a mothership or catcher/processor or manager of a shoreside processor or stationary floating processor must:

(i) Record all product transfer information on a PTR within 2 hours of the completion of the transfer.

(ii) Submit by FAX or electronic file a copy of each PTR to OLE, Juneau, by 1200 hours, A.l.t., on the Tuesday following the end of the applicable weekly reporting period in which the transfer occurred.

(iii) A PTR is not required to accompany a shipment or offload.

(3) General information. In addition to requirements described in paragraphs (a) and (b) of this section the operator or manager must record on a PTR:

(i) Whether original or revised PTR;

(ii) Whether receipt or shipment. “RECEIPT” if product is received; “SHIPMENT” if transferring product off your site or transferring product off your vessel;

(iii) Your processor type;

(iv) Whether you are the shipper or the receiver.

(4) Transfer Information—(i) Shipper. (A) Enter information about your company: If you are shipping groundfish or groundfish product, enter your company name, address, FAX number, and ADF&G processor code.

(B) Enter information about the other company: If you are receiving groundfish or groundfish product from another company, enter name of the other company and ADF&G processor code (if applicable).

(ii) Receiver. (A) Enter information about your company: If you are receiving groundfish or groundfish product, enter your company name and ADF&G processor code.

(B) Enter information about the other company: If you are shipping groundfish or groundfish product to another company on land, enter name of the receiver and ADF&G processor code (if applicable).

(C) If you are the shipper, enter appropriate information about the other company as provided in the following table:

BILLING CODE 3510-22-S

(5) Products shipped or received. Enter information for each transfer:

(i) The species code and product code for each product transferred (Tables 1 and 2 to this part).

(ii) The number of cartons or production units transferred.

(iii) The average weight of one carton or production unit for each species and product code in kilograms or pounds (indicate which).

(iv) The total net weight (to the nearest 0.001 mt) of the products transferred.

(v) In addition to paragraphs (g)(5)(i) through (iv) of this section, if recording two or more species with one or more product types of fish in the same carton, enter the actual scale weight of each product of each species to the nearest 0.001 mt. If not applicable, enter “n/a” in the species weight column. If you use more than one line to record species in one carton, use a bracket } to tie the carton information together.

(6) Total or partial offload. (i) If a mothership or catcher/processor, indicate whether the transfer is a total or partial offload.

(ii) If a partial offload, for the products remaining on board, enter: species code, product code, and total product weight to the nearest 0.001 mt for each product.

(h) Check-in/check-out report—(1) Time limits and submittal. The operator of a catcher/processor or mothership or the manager of a shoreside processor or stationary floating processor must submit a check-in report prior to becoming active (see paragraph 679.5(a)(7)(i) of this section) and a check-out report for every check-in report submitted. Check-in and check-out reports must be submitted within the appropriate time limits to the Regional Administrator by FAX or Telex; or transmit a data file by e-mail, modem, or satellite (specifically INMARSAT standards A, B, or C); or transmit by voluntary electronic check-in and check-out reports.

(i) Check-in report (BEGIN message). Except as indicated in paragraph (h)(1)(iii) of this section the operator or manager must submit a check-in report according to the following table:

BILLING CODE 3510-22-C

(ii) Check-out report (CEASE message). Except as indicated in paragraph (h)(1)(iii) of this section, the operator or manager must submit a check-out report according to the following table:

Submit a separate CEASE message for ... | If you are a ... | Within this time limit
(A) COBLZ or RKCSA | (1) C/P using trawl gear (2) MS, SS, SFP | Upon completion of gear retrieval for groundfish, submit a separate check-out for the COBLZ or RKCSA and another check-out for the area outside the COBLZ or RKCSA. If receiving groundfish harvested with trawl gear, upon completion of receipt of groundfish, submit a separate check-out for the COBLZ or RKCSA and another check-out for the area outside the COBLZ or RKCSA.
(B) Processor type | C/P, MS | Upon completion of simultaneous activity as both catcher/ processor and mothership, a separate check-out, one for catcher/processor and one for mothership.
(C) Gear Type | (1) C/P (2) MS, SS, SFP | Upon completion of gear retrieval for groundfish, submit a separate check-out for each gear type for which a check-in was submitted. Upon completion of receipt of groundfish, submit a separate check-out for each gear type for which a check-in was submitted.
(D) CDQ | (1) C/P (2) MS, SS, SFP | Within 24 hours after groundfish CDQ fishing for each CDQ group has ceased. Within 24 hours after receipt of groundfish CDQ has ceased for each CDQ group.
(E) Exempted or Research Fishery | (1) C/P (2) MS, SS, SFP | If groundfish are caught during an exempted or research fishery, submit a separate check-out for each type for which a check-in was submitted. Upon completion of receipt of groundfish under an exempted or research fishery, submit a separate check-out for each type for which a check-in was submitted.
(F) Reporting Area | (1) C/P using longline or pot gear | Upon completion of gear retrieval and within 24 hours after departing each reporting area
| (2) C/P using trawl gear | Within 24 hours after departing a reporting area but prior to checking-in another reporting area
| (3) SS, SFP | Within 48 hours after the end of the applicable weekly reporting period that a shoreside processor or stationary floating processor ceases to receive or process groundfish from that reporting area for the fishing year.
| (4) MS, SS, SFP | If receipt of groundfish from a reporting area is expected to stop for a period of time (month(s)) during the fishing year and then start up again, may submit a check-out report for that reporting area
| (5) MS | Within 24 hours after receipt of fish is complete from that reporting area.
(G) Change of fishing year | C/P, MS, SS, SFP | If a check-out report was not previously submitted during a fishing year for a reporting area, submit on December 31, a check-out report for each reporting area.
(H) Interruption of production | SS, SFP | If receipt of groundfish from a reporting area is expected to stop for a period of time (month(s)) during the fishing year and then start up again, the manager may choose to submit a check-out report for that reporting area.

(iii) Exception, two adjacent reporting areas. If on the same day a catcher/processor intends to fish in two adjacent reporting areas (an action which would require submittal of check-out reports and check-in reports multiple times a day when crossing back and forth across a reporting area boundary), and the two reporting areas have on that day and time an identical fishing status for every species, the operator must:

(A) Submit to NMFS a check-in report to the first area prior to entering the first reporting area, and

(B) Submit to NMFS a check-in report to the second area prior to entering the second reporting area.

(C) Remain within 10 nautical miles (18.5 km) of the boundary described in paragraph (h)(1)(iii) of this section.

(D) If the catcher/processor proceeds in the second reporting area beyond 10 nautical miles (18.5 km) of the boundary between the two areas, the operator must submit a check-out report from the first reporting area. The operator must submit a check-out report from the second area upon exiting that reporting area (see paragraph (h)(1)(ii)of this section).

(2) Transit through reporting areas. The operator of a catcher/processor or mothership is not required to submit a check-in or check-out report if the vessel is transiting through a reporting area and is not fishing or receiving fish.

(3) Required information. The operator of a mothership or catcher/processor or the manager of a shoreside processor or stationary floating processor must record the following information.

(i) For each check-in and check-out report. (A) Whether an original or revised report;

(B) Participant identification information (see paragraph (a)(5) of this section);

(C) Representative information (see paragraph (b)(2) of this section);

(D) Management program name and identifying number (if any);

(E) If a mothership or catcher/processor, processor type and gear type.

(ii) For each check-in report, mothership. (A) Date and time when receipt of groundfish will begin;

(B) Position coordinates where groundfish receipt begins;

(C) Reporting area code where gear deployment begins;

(D) Primary and secondary target species expected to be received the following week. A change in intended target species within the same reporting area does not require a new BEGIN message.

(iii) For each check-in report, catcher/processor. (A) Date and time when gear deployment will begin;

(B) Position coordinates where gear is deployed;

(C) Reporting area code of groundfish harvest;

(D) Primary and secondary target species expected to be harvested the following week. A change in intended target species within the same reporting area does not require a new BEGIN message.

(iv) For each check-in report, shoreside processor or stationary floating processor: (A) Indicate check-in report;

(B) Date facility will begin to receive groundfish;

(C) Whether checking in for the first time this fishing year or checking in to restart receipt and processing of groundfish after filing a check-out report;

(D) The product weight of all fish or fish products (including non-groundfish) remaining at the facility (other than public cold storage) by species code and product code;

(E) Whether pounds or 0.001 mt.

(v) For each check-out report, mothership: Date, time, reporting area code, and position coordinates where the last receipt of groundfish was completed.

(vi) For each check-out report, catcher/processor: date, time, reporting area code, and position coordinates where the vessel departed the reporting area.

(vii) For each check-out report, shoreside processor or stationary floating processor: (A) Indicate check-out report;

(B) Date facility ceased to receive or process groundfish;

(C) The product weight of all fish or fish products (including non-groundfish) remaining at the facility (other than public cold storage) by species code and product code;

(D) Whether pounds or 0.001 mt.

(i) Weekly Production Report (WPR)—(1) Who needs to submit a weekly production report? (i) Except as indicated in paragraph (i)(1)(iii) of this section, the operator or manager must submit a WPR for any week the mothership, catcher/processor, shoreside processor, or stationary floating processor is checked-in pursuant to paragraph (h)(2) of this section.

(ii) If a vessel is operating simultaneously during a weekly reporting period as both a catcher/processor and a mothership, the operator must submit two separate WPRs for that week, one for catcher/processor fishing activity and one for mothership fishing activity.

(iii) Exemption. If using SPELR or software approved by the Regional Administrator as described in § 679.5(e), a shoreside processor or stationary floating processor is exempt from the requirements to submit a WPR.

(2) Time limit and submittal. The operator or manager must submit a separate WPR by FAX or electronic file to the Regional Administrator by 1200 hours, A.l.t. on Tuesday following the end of the applicable weekly reporting period.

(3) Submit separate WPR. The operator or manager must submit a separate WPR if:

(i) Processor type. For each processor type if a catcher/processor is functioning simultaneously as a Mothership in the same reporting area.

(ii) Gear type. For each gear type of harvester if groundfish are caught in the same reporting area using more than one gear type.

(iii) COBLZ or RKCSA. If groundfish are caught with trawl gear, submit one report for fish harvested in the COBLZ or RKCSA and another report for fish harvested outside the COBLZ or RKCSA.

(iv) Management Program. If groundfish are caught under a specific management program, submit a separate report for each program.

(v) Reporting area. For each reporting area, except 300, 400, 550, or 690.

(vi) Change of fishing year. If continually active through the end of one fishing year and at the beginning of a second fishing year, the operator or manager must submit a WPR for each reporting area:

(A) To complete the year at midnight, December 31, if still conducting fishing activity regardless of where this date falls within the weekly reporting period.

(B) To start the year on January 1, if still conducting fishing activity regardless of where this date falls within the weekly reporting period.

(4) Required information. The operator or manager must record:

(i) Whether original or revised WPR;

(ii) Week-ending date;

(iii) Participant identification information (see paragraph (a)(5) of this section);

(iv) Representative information (see paragraph (b)(2) of this section);

(v) Date (month-day-year) WPR completed;

(vi) Management program name and identifying number (if any);

(vii) Gear type of harvester;

(viii) If a mothership or catcher/processor, processor type and crew size;

(ix) Reporting area of harvest;

(x) If a shoreside processor or stationary floating processor, landings scale weights of groundfish by species and product codes and product designations; scale weights or fish product weights of groundfish by species and product codes and product designations;

(xi) Discard or disposition weights or numbers by species and product codes;

(xii) ADF&G fish ticket numbers issued to catcher vessels at delivery (except catcher/processors).

(j) Daily Production Report (DPR)—(1) Notification. If the Regional Administrator determines that DPRs are necessary to avoid exceeding a groundfish TAC or prohibited species bycatch allowance, NMFS may require submittal of DPRs from motherships, catcher/processors, shoreside processors and stationary floating processors for reporting one or more specified species, in addition to a WPR. NMFS will publish notification in the Federal Register specifying the fisheries that require DPRs and the dates that submittal of DPRs are required.

(2) Applicability. (i) If a catcher/processor or mothership is checked in to the specified reporting area and is harvesting, receiving, processing, or discarding the specified species or is receiving reports from a catcher vessel of discard at sea of the specified species, the operator must submit a DPR, when required.

(ii) If a shoreside processor or stationary floating processor is receiving, processing, or discarding the specified species or is receiving reports from a catcher vessel of discard at sea of the specified species, the manager must submit a DPR when required.

(iii) The operator of a catcher/processor or mothership or the manager of a shoreside processor or stationary floating processor must use a separate DPR for each gear type, processor type, and CDQ number.

(3) Time limit and submittal. The operator or manager must submit a DPR by FAX to the Regional Administrator by 1200 hours, A.l.t., the day following each day of landings, discard, or production.

(4) Information required. In addition to requirements described in paragraphs (a) and (b) of this section, the operator of a catcher/processor or mothership, or the manager of a shoreside processor or stationary floating processor must record the processor type.

(k) U.S. Vessel Activity Report (VAR)—(1) Who needs to submit a VAR? Except as noted in paragraphs (k)(1)(iii) and (iv) of this section, the operator of a catcher vessel greater than 60 ft (18.3 m) LOA, a catcher/processor, or a mothership holding a Federal fisheries permit issued under this part and carrying fish or fish product onboard must complete and submit a VAR by FAX or electronic file to OLE, Juneau, AK before the vessel crosses the seaward boundary of the EEZ off Alaska or crosses the U.S.—Canadian international boundary between Alaska and British Columbia.

(i) Both groundfish and IFQ fish. If a vessel is carrying both groundfish and IFQ halibut or IFQ sablefish, the operator must submit a VAR in addition to a Vessel Departure Report (VDR) or a Vessel Clearance (VC).

(ii) Revised VAR. If groundfish are landed at a port other than the one specified, submit a revised VAR showing the actual port of landing.

(iii) Exemption: Vessel clearance. If a vessel is carrying only IFQ halibut or IFQ sablefish onboard and the operator has received a Vessel Clearance per paragraph (l)(5)(iii) of this section, a VAR is not required.

(iv) Exemption: IFQ departure report. If a vessel is carrying only IFQ halibut or IFQ sablefish onboard and the operator has submitted a Departure Report per paragraph (l)(5)(iii)(B) of this section, a VAR is not required.

(2) Information required. Whether original or revised VAR; name and Federal fisheries permit number of vessel; type of vessel (whether catcher vessel, catcher/processor, or mothership); and representative information (see paragraph (b)(2) of this section).

(i) Return report. “Return,” for purposes of this paragraph, means coming back to Alaska. If the vessel is crossing into the seaward boundary of the EEZ off Alaska or crossing the U.S.-Canadian international boundary between Alaska and British Columbia into U.S. waters, indicate a “return” report and enter:

(A) Intended Alaska port of landing (see Table 14 to this part);

(B) Estimated date and time (hour and minute, Greenwich mean time) the vessel will cross;

(C) The estimated position coordinates the vessel will cross.

(ii) Depart report. “Depart” means leaving Alaska. If the vessel is crossing out of the seaward boundary of the EEZ off Alaska or crossing the U.S.-Canadian international boundary between Alaska and British Columbia into Canadian waters, indicate a “depart” report and enter:

(A) The intended U.S. port of landing or country other than the United States;

(B) Estimated date and time (hour and minute, Greenwich mean time) the vessel will cross;

(C) The estimated position coordinates in latitude and longitude the vessel will cross.

(iii) The Russian Zone. Indicate whether your vessel is returning from fishing in the Russian Zone or is departing to fish in the Russian Zone.

(iv) Fish or fish products. For all fish or fish products (including non-groundfish) on board the vessel, enter: Harvest zone code; species codes; product codes; and total fish product weight in lbs or to the nearest 0.001 mt.

(l) IFQ and CDQ halibut recordkeeping and reporting. In addition to the recordkeeping and reporting requirements in this section and as prescribed in the annual management measures published in the Federal Register pursuant to § 300.62 of this title, the following IFQ reports are required, when applicable: prior notices of landing, landing report, shipment report, transshipment authorization, vessel clearance, and IFQ departure report.

(1) Prior notice of IFQ landing—(i) Applicability. Except as provided in paragraph (l)(1)(iv) of this section, the operator of any vessel making an IFQ landing must notify OLE, Juneau, AK no fewer than 6 hours before landing IFQ halibut or IFQ sablefish, unless permission to commence an IFQ landing within 6 hours of notification is granted by a clearing officer.

(ii) Time limits. A prior notice of landing must be made to the toll-free telephone number 800-304-4846 OR TO 907-586-7202 between the hours of 0600 hours, A.l.t., and 2400 hours, A.l.t.

(iii) Information required. A prior notice of landing must include the following:

(A) Vessel name and ADF&G vessel registration number;

(B) Name and permit number of the Registered Buyer who will be responsible for completion and submittal of the IFQ Landing Report(s);

(C) The location of the landing (port name or code);

(D) The date and time (A.l.t.) that the landing will take place;

(E) Landing directions;

(F) Species and estimated weight (in pounds) of the IFQ halibut or IFQ sablefish that will be landed;

(G) IFQ regulatory area(s) in which the IFQ halibut or IFQ sablefish were harvested;

(H) IFQ permit number(s) that will be used to land the IFQ halibut or IFQ sablefish.

(iv) Exemption. An IFQ landing of halibut of 500 lb (0.23 mt) or less of IFQ weight determined pursuant to § 679.42(c)(2) and concurrent with a legal landing of salmon or a legal landing of lingcod harvested using dinglebar gear is exempt from the prior notice of landing required by this section.

(v) Revision to prior notice of landing. The operator of any vessel wishing to land IFQ halibut or IFQ sablefish before the date and time (A.l.t.) reported in the prior notice of landing or later than 2 hours after the date and time (A.l.t.) reported in the prior notice of landing must submit a new prior notice of IFQ landing as described in paragraphs (l)(1)(i) through (iii) of this section.

(2) Landing report—(i) Applicability. (A) A Registered Buyer must report an IFQ landing within 6 hours after all such fish are landed and prior to shipment of said fish or departure of the delivery vessel from the landing site.

(B) All IFQ catch retained onboard a vessel at commencement of a landing must be weighed and debited from the IFQ permit holder's account under which the catch was harvested.

(ii) Electronic landing report. (A) Except as indicated in paragraphs (l)(2)(ii)(D) and (E) of this section, electronic landing reports must be submitted to OLE, Juneau, AK using magnetic strip cards issued by NMFS, Alaska Region, and transaction terminals with printers driven by custom-designed software as provided and/or specified by NMFS, Alaska Region. It is the responsibility of the Registered Buyer to locate or procure a transaction terminal and report as required.

(B) The IFQ cardholder must initiate a landing report by using his or her own magnetic card and personal identification number (PIN).

(C) Once landing operations have commenced, the IFQ cardholder and the harvesting vessel may not leave the landing site until the IFQ account is properly debited. The offloaded IFQ species may not be moved from the landing site until the IFQ landing report is received by OLE, Juneau, AK and the IFQ cardholder's account is properly debited. A properly concluded transaction terminal receipt, printed Internet submission receipt, or manual landing report receipt received by FAX from OLE, Juneau, AK constitutes confirmation that OLE received the landing report and that the cardholder's account was properly debited. After the Registered Buyer enters the landing data in the transaction terminal or the Internet submission form(s) and a receipt is printed, the IFQ cardholder must sign the receipt to acknowledge the accuracy of the landing report. Legible copies of the receipt must be retained by both the Registered Buyer and the IFQ cardholder pursuant to paragraph (l)(6) of this section.

(D) Electronic landing reports may be submitted to OLE, Juneau, AK using Internet submission methods as provided and/or specified by NMFS, Alaska Region. It is the responsibility of the Registered Buyer to obtain at his or her own expense, hardware, software and Internet connectivity to support Internet submissions and report as required.

(E) Waivers from the electronic reporting requirement can only be granted in writing on a case-by-case basis by a local clearing officer.

(iii) Manual landing report. (A) If a waiver has been granted pursuant to paragraph (l)(2)(ii) of this section, manual landing instructions must be obtained from OLE, Juneau, AK at (800)304-4846. Completed manual landing reports must be submitted by FAX to OLE, Juneau, AK at (907)586-7313.

(B) The manual landing report must be signed by the Registered Buyer or his/her representative, and the IFQ cardholder to acknowledge the accuracy of the landing report, and by the OLE representative to show that the IFQ cardholder's account was debited consistent with the landing report.

(iv) Time limits and submittals. (A) An IFQ landing may commence only between 0600 hours, A.l.t., and 1800 hours, A.l.t., unless permission to land at a different time (waiver) is granted in advance by a clearing officer.

(B) An IFQ landing report must be completed and the IFQ account(s) properly debited, as defined in paragraph (l)(2)(ii)(C) of this section, within 6 hours after the completion of the IFQ landing.

(v) Landing verification and inspection. Each IFQ landing and all fish retained on board the vessel making an IFQ landing are subject to verification, inspection, and sampling by authorized officers, clearing officers, or observers. Each IFQ halibut landing is subject to sampling for biological information by persons authorized by the IPHC.

(vi) Information required. The Registered Buyer must enter accurate information contained in a complete IFQ landing report as follows:

(A) Date and time (A.l.t.) of the IFQ landing;

(B) Location of the IFQ landing (port code or if at sea, lat. and long.);

(C) Name and permit number of the IFQ card holder;

(D) Name and permit number of Registered Buyer receiving the IFQ species;

(E) The harvesting vessel's name and ADF&G vessel registration number;

(F) Gear type used to harvest IFQ species;

(G) Alaska State fish ticket number(s) for the landing;

(H) ADF&G statistical area of harvest reported by the IFQ cardholder;

(I) If ADF&G statistical area is bisected by a line dividing two IFQ regulatory areas, the IFQ regulatory area of harvest reported by the IFQ cardholder;

(J)(1) Except as indicated in paragraph (l)(2)(vi)(J)(2) of this section, for each ADF&G statistical area of harvest, the species codes, product codes, and initial accurate scale weight (in pounds) made at the time of offloading for IFQ species sold and retained;

(2) If the vessel operator is a Registered Buyer reporting the IFQ landing, the accurate weight of IFQ sablefish processed product obtained before the offload may be substituted for the initial accurate scale weight at time of offload.

(K) Whether ice and slime is present on the fish as offloaded from the vessel (YES or NO). Fish which have been washed prior to weighing or which have been offloaded from refrigerated salt water are not eligible for a 2 percent deduction for ice and slime and must indicate NO SLIME &ICE.

(L) If IFQ halibut is incidental catch concurrent with legal landing of salmon or concurrent with legal landing of lingcod harvested using dinglebar gear;

(M) Signature of Registered Buyer representative;

(N) Signature of IFQ/CDQ card holder.

(vii) Manual landing report. When a waiver is issued pursuant to paragraph (l)(2)(ii)(A) of this section, additional information is required. In addition to the information required in paragraph (l)(2)(vi) of this section, the following information is required to complete a landing report using a manual landing report:

(A) Whether the manual landing report is an original or revised;

(B) Name, telephone number, and FAX number of individual submitting the manual landing report.

(3) Shipment report—(i) Requirement. (A) Except as provided in paragraph (l)(3)(i)(D) of this section, complete a written shipment report for each shipment or transfer of IFQ halibut and IFQ sablefish for which the Registered Buyer submitted a landing report before the fish leave the landing site.

(B) Assure that a shipment report is submitted to, and received by, OLE, Juneau, AK by FAX to (907) 586-7313 or mail to P.O. Box 21767, Juneau, AK 99802-1767, within 7 days of the date shipment commenced.

(C) Ensure that a copy of the shipment report or a bill of lading containing the same information accompanies the shipment of IFQ species from the landing site to the first destination beyond the location of the IFQ landing.

(D) A shipment report is not required for transportation of IFQ species directly from the landing site to a processing facility owned by the Registered Buyer submitting the IFQ landing report. When transporting the fish in this manner, the landing report receipt from the IFQ terminal documenting the IFQ landing must accompany the offloaded IFQ species. For IFQ species transported in this manner, the Registered Buyer must complete a shipment report for each shipment or transfer of IFQ halibut and IFQ sablefish from the Registered Buyer's processing facility.

(ii) Information required. A shipment report must specify the following:

(A) Whether revised or original report;

(B) Shipment date;

(C) Registered Buyer name, address, FAX number, and permit number;

(D) Signature of Registered Buyer or Registered Buyer's representative;

(E) Receiver name (this is the first receiver; the purchaser, wholesaler, or retailer who will receive the shipment from the Registered Buyer) and address;

(F) Mode of transportation and intended route;

(G) Name of the shipping company or entity that is transporting the shipment.

(1) If by air, enter the name of the airline, flight number, departure and arrival airport locations.

(2) If by containerized van, enter the name of the shipping company, vessel transporting the van, and departure and arrival ports.

(3) If by vessel, enter the name of the shipping company if applicable, name of the vessel transporting, and the departure and arrival ports.

(4) If by ground transportation, enter the name of the shipping or trucking company, and departure and arrival locations.

(H) Species codes and product codes of IFQ species;

(I) Total number of production units (blocks, trays, pans, individual fish, boxes, or cartons; if iced, enter number of totes or containers).

(J) Unit weight (weight of single production unit as listed in “No. of Units”); indicate whether metric tons or pounds;

(K) Total fish product weight of shipment less packing materials; indicate whether metric tons or pounds.

(iii) Revision to shipment report. Each Registered Buyer must ensure that, if any information on the original Shipment Report changes prior to the first destination of the shipment, a revised shipment report is submitted to OLE, Juneau, clearly labeled “Revised Report” and that the revised shipment report be received by OLE, Juneau, AK within 7 days of the change.

(iv) Dockside sale. A Registered Buyer conducting dockside sales must issue a receipt in lieu of a shipment report, that includes the date of sale or transfer, the Registered Buyer permit number, and the fish product weight of the IFQ sablefish or halibut transferred to each individual receiving IFQ halibut or IFQ sablefish.

(4) Transshipment authorization. (i) No person may transship processed IFQ halibut or IFQ sablefish between vessels without authorization by a clearing officer. Authorization from a clearing officer must be obtained for each instance of transshipment at least 24 hours before the transshipment is intended to commence.

(ii) Information required. To obtain a transshipment authorization, the vessel operator must provide the following information to the clearing officer:

(A) Date and time (A.l.t.) of transshipment;

(B) Location of transshipment;

(C) Name and ADF&G vessel registration number of vessel offloading transshipment;

(D) Name of vessel receiving the transshipment;

(E) Product destination;

(F) Species and product type codes;

(G) Total product weight;

(H) Time (A.l.t.) and date of the request;

(I) Name, telephone number, FAX number (if any) for the person making the request.

(5) Vessel clearance—(i) Requirement. A vessel operator who intends to make an IFQ landing at any location other than in an IFQ regulatory area or in the State of Alaska must first obtain a vessel clearance at a primary port from a clearing officer.

(ii) Canadian ports. A vessel operator who intends to land IFQ species in Canada must first obtain a vessel clearance from a clearing officer at a primary port and must make the landing only at the British Columbia ports of Port Hardy, Prince Rupert, or Vancouver.

(iii) Registered Buyer permit. A vessel operator obtaining an IFQ vessel clearance or submitting a departure report must have a Registered Buyer permit.

(iv) IFQ permits on board. A vessel operator obtaining an IFQ vessel clearance must ensure that one or more IFQ cardholders is on board with enough remaining IFQ balance to harvest amounts of IFQ fish equal to or greater than all IFQ halibut and IFQ sablefish on board.

(v) Inspection. A vessel for which a vessel operator is seeking an IFQ vessel clearance is subject to inspection of all fish, logbooks, permits, and other documents on board the vessel at the discretion of the clearing officer.

(vi) Primary ports. Unless specifically authorized on a case-by-case basis by a clearing officer, IFQ vessel clearances will be issued only at the primary ports listed in Table 14 to this part.

(vii) Completion of fishing. An IFQ vessel operator who obtains an IFQ vessel clearance may only obtain that IFQ vessel clearance after completion of all fishing. If any fishing takes place after issuance of an IFQ vessel clearance, the vessel operator must obtain a new IFQ vessel clearance.

(viii) Required information. To obtain an IFQ vessel clearance, the vessel operator must provide the following information to the clearing officer:

(A) Date, time (A.l.t.), and location of requested IFQ vessel clearance;

(B) Vessel name and ADF&G vessel registration number;

(C) Name and permit numbers of IFQ permits used to harvest IFQ species on board;

(D) Vessel operator's IFQ Registered Buyer permit number;

(E) Estimated total weight of IFQ halibut on board (lb/kg/mt);

(F) Estimated total weight of IFQ sablefish on board;

(G) IFQ areas of harvest;

(H) Intended date, time (A.l.t.) and location of landing;

(I) Signature of vessel operator.

(ix) First landing of any species. A vessel operator must land and report all IFQ species on board at the same time and place as the first landing of any species harvested during an IFQ fishing trip.

(x) IFQ landing after vessel clearance. A vessel operator having been granted an IFQ vessel clearance must be the Registered Buyer responsible for the IFQ landing and must submit the IFQ landing report, required under this section, for all IFQ halibut, IFQ sablefish and products thereof that are on board the vessel at the first landing of any fish from the vessel.

(xi) IFQ departure report. (A) A vessel operator who intends to obtain a vessel clearance outside the State of Alaska must submit an IFQ departure report, by telephone, to OLE, Juneau, AK at 907-586-7225 or 800-304-4846. The IFQ departure report may only be submitted after completion of all IFQ fishing and prior to departing the waters of the EEZ adjacent to the jurisdictional waters of the State of Alaska, the territorial sea of the State of Alaska, or the internal waters of the State of Alaska. The vessel operator must provide the following information:

(B) Vessel name and ADF&G registration number;

(C) Name of vessel operator submitting the IFQ departure report;

(D) Total weight on board of IFQ halibut and total weight of IFQ sablefish;

(E) Intended date, time (A.l.t.), and location for obtaining an IFQ vessel clearance.

(6) Record retention. A copy of all reports and receipts required by this section must be retained by Registered Buyers and be made available for inspection by an authorized officer or a clearing officer for a period of 3 years.

(7) * * *

(i) * * *

(C) * * *

(3) * * *

(ii) Certification, including the signature or electronic PIN of the individual authorized by the IFQ registered buyer to submit the IFQ Buyer Report, and date of signature or date of electronic submittal.

(D) Submission address. The registered buyer must complete an IFQ Buyer Report and submit by mail or FAX to:

Administrator, Alaska Region, NMFS,

Attn: RAM Program,

P.O. Box 21668,

Juneau, AK 99802 1668,

FAX: (907) 586-7354

or electronically to NMFS via forms available from

RAM or on the RAM area of the Alaska Region Home Page at http://www.fakr.noaa.gov/ram.

* * * * *

(ii) * * *

(C) * * *

(4) Fee payment and certification section— (i) Information required. An IFQ permit holder with an IFQ landing must provide his or her NMFS person identification number, signature, and date of signature on the Fee Payment section of the form or provide the electronic equivalent and record the following: his or her printed name; the total annual fee amount as calculated and recorded on the Fee Calculation page; the total of any pre-payments submitted to NMFS that apply to the total annual fee amount; the remaining balance fee; and the enclosed payment amount.

* * * * *

(m) Consolidated weekly ADF&G fish tickets from motherships—(1) Requirement. (i) The operator of a mothership must ensure that any groundfish catch received by a mothership from a catcher vessel that is issued a Federal fisheries permit under § 679.4 is recorded for each weekly reporting period on a minimum of one ADF&G groundfish fish ticket. The operator of a mothership may create a fish ticket for each delivery of catch. (An ADF&G fish ticket is further described at Alaska Administrative Code, 5 AAC Chapter 39.130.) A copy of the Alaska Administrative Code can be obtained from the Alaska Regional Office, see § 600.502 of this chapter, Table 1.

(ii) The operator of a mothership must ensure that the information listed in paragraph (m)(2)(iii) of this section is written legibly or imprinted from the catcher vessel operator's State of Alaska, Commercial Fisheries Entry Commission (CFEC) permit card on the consolidated weekly ADF&G fish ticket.

(2) Information required from the catcher vessel. (i) The operator of a catcher vessel delivering groundfish to a mothership must complete the parts of the fish ticket listed in paragraph (m)(2)(iii) of this section, sign the fish ticket, and provide it to the operator of the mothership receiving groundfish harvest for submittal to ADF&G.

(ii) If there is a change in the operator of the same catcher vessel during the same weekly reporting period, complete a fish ticket for each operator.

(iii) Information required: (A) Name and ADF&G vessel registration number of the catcher vessel;

(B) Name, signature and CFEC permit number of CFEC permit holder aboard the catcher vessel;

(C) The six-digit ADF&G groundfish statistical area denoting the actual area of catch;

(D) Write in gear type used by the catcher vessel, whether hook and line, pot, nonpelagic trawl, pelagic trawl, jig, troll, or other.

(3) Information required from the mothership. The operator of a mothership must ensure that the following information is written legibly or imprinted from the mothership's CFEC processor plate card on the consolidated weekly ADF&G fish ticket:

(i) Mothership name and ADF&G processor code;

(ii) Enter “FLD” for port of landing or vessel transshipped to;

(iii) Signature of the mothership operator;

(iv) The week-ending date of the weekly reporting period during which the mothership received the groundfish from the catcher vessel;

(v) Species code for each species from Table 2 to this part, except species codes 120, 144, 168, 169, or 171;

(vi) The product code from Table 1 to this part (in most cases, this will be product code 01, whole fish);

(vii) ADF&G 6-digit statistical area in which groundfish were harvested. If there are more than eight statistical areas for a fish ticket in a weekly reporting period, complete a second fish ticket. These statistical areas are defined in a set of charts obtained at no charge from Alaska Commercial Fisheries Management &Development Division, Department of Fish and Game and are also available on the ADF&G website at http://www.cf.adfg.state.ak.us/geninfo/statmaps;

(viii) The landed weight of each species to the nearest pound. If working in metric tons, convert to pounds using 2204.6 lb = 1 mt before recording on fish ticket.

(4) Time limit and submittal. (i) The operator of a mothership must complete a minimum of one ADF&G groundfish fish ticket for each catcher vessel by 1200 hours, A.l.t., on Tuesday following the end of the applicable weekly reporting period.

(ii) The operator of a mothership must ensure copy distribution within the indicated time limit or retention of the multiple copies of each consolidated weekly ADF&G groundfish fish ticket (G series) as follows:

If fish ticket color is ... | Distribute to ... | Time limit
(A) White | Retained by Mothership, see paragraph (a)(13)(ii)(D)(6) of this section | N/A
(B) Yellow | Alaska Commercial Fisheries Management & Development Division, Department of Fish & Game, 211 Mission Road, Kodiak, AK, 99615-6399 | Within 45 days after landings are received
(C) Pink | Catcher vessel delivering groundfish to the mothership | 1200 hours, A.l.t., on Tuesday following the end of the applicable weekly reporting period.
(D) Golden-rod | Extra copy | N/A

(n) Groundfish CDQ fisheries—(1) CDQ delivery report—(i) Who must submit a CDQ delivery report? The manager of each shoreside processor and stationary floating processor taking deliveries of groundfish CDQ or PSQ species from catcher vessels must submit for each delivery a CDQ delivery report, unless using the SPELR described at paragraph (e) of this section to submit the required CDQ information.

(ii) Time limit and submittal. The manager as defined at paragraph (n)(1)(i) of this section must submit to the Regional Administrator a CDQ delivery report within 24 hours of completion of each delivery of groundfish CDQ or PSQ species to the processor.

(iii) Information required. The manager as defined at paragraph (n)(1)(i) of this section must record whether the report is original or a revision and the following information on each CDQ delivery report:

(A) CDQ group information. CDQ group number as defined at § 679.2 and CDQ group name or acronym.

(B) Processor information. (1) Name and federal processor permit number of the processor as defined at paragraph (n)(1)(i) of this section taking delivery of the CDQ catch.

(2) Date delivery report submitted.

(C) Vessel and catch information. (1) Enter the name, Federal Fisheries Permit number if applicable, and ADF&G vessel registration number of the vessel delivering CDQ catch. Write “unnamed” if the vessel has no name;

(2) Enter the delivery date, date fishing began, harvest gear type, and Federal reporting area of CDQ harvest. If caught with trawl gear, check appropriate box(es) to indicate if catch was made in the CVOA or the COBLZ.

(D) Groundfish CDQ Species in this delivery. Enter weight by species codes and product codes as defined in Tables 1 and 2 to this part, respectively, of groundfish CDQ species that were delivered. Report the weight of each CDQ species in metric tons to at least the nearest 0.001 mt.

(E) Halibut CDQ, halibut IFQ and sablefish IFQ in this delivery. For nontrawl vessels only, enter the product code and product weight for any halibut CDQ, halibut IFQ, and sablefish IFQ in this catch. Submit this same information to the Regional Administrator on an IFQ landing report (see paragraph (l)(2) of this section).

(F) PSQ information. For halibut, enter the species code and the weight to the nearest 0.001 mt. For salmon or crab, enter the species code and the number of animals.

(1) Enter PSQ species delivered and discarded from processor by species code and weight or numbers.

(2) Enter at-sea discards of PSQ for vessels without observers by species code and weight or numbers.

(2) CDQ catch report—(i) Who must submit a CDQ catch report? The CDQ representative must submit a CDQ catch report for all groundfish catch made by vessels groundfish CDQ fishing as defined at § 679.2 or for any groundfish harvested by vessels greater than or equal to 60 ft (18.3 m) LOA while halibut CDQ fishing and delivered to a shoreside processor, to a stationary floating processor, or to a mothership.

(ii) Time limit and submittal. Submit to the Regional Administrator a CDQ catch report:

(A) Within 7 days of the date CDQ catch was delivered by a catcher vessel to a shoreside processor, stationary floating processor, or mothership.

(B) Within 7 days of the date gear used to catch CDQ was retrieved by a catcher/processor.

(iii) Information required, all CDQ catch reports. Record whether an original or revised report and the following information on each CDQ catch report:

(A) Vessel type. Indicate one appropriate vessel/gear/delivery type.

(B) Vessel catch information— (1) Enter the name, Federal fisheries permit number if applicable, and ADF&G vessel registration number of the vessel delivering CDQ catch. Write “unnamed” if the vessel has no name.

(2) Reporting area. Enter reporting area in which CDQ catch occurred. If a set occurs in more than one area, record the area code where gear retrieval was completed.

(3) Gear type. Circle gear type used to harvest CDQ catch. If caught with trawl gear, check appropriate box(es) to indicate if catch was made in the CVOA or the COBLZ.

(C) CDQ group information. Enter CDQ number as defined at § 679.2, CDQ group name or acronym, and date report submitted to NMFS.

(iv) Catch and delivery Information: catcher vessels retaining all groundfish CDQ and delivering to shoreside processors or stationary floating processors (Option 1 in the CDP). Record the following information on each applicable CDQ catch report:

(A) Delivery information. Name and Federal processor permit number of the shoreside processor or the stationary floating processor taking delivery of the CDQ catch; date catch delivered to processor; and date fishing began on this trip.

(B) Catch information, groundfish CDQ species. Report the weight in metric tons to at least the nearest 0.001 mt for each groundfish CDQ species retrieved by a catcher/processor or delivered to a processor as defined in paragraph (n)(1)(i) of this section by product code and species code as defined in Tables 1 and 2 to this part, respectively.

(C) Catch information, halibut CDQ, halibut IFQ and sablefish IFQ. For non-trawl vessels only, enter the product code as defined in Table 1 to this part and product weight in metric tons to at least the nearest 0.001 mt for any halibut CDQ, halibut IFQ, and sablefish IFQ in the CDQ delivery. Submit this same information to the Regional Administrator on an IFQ landing report (see § 679.5(l)(2)).

(D) Mortality information, salmon and crab PSQ. For salmon or crab, enter the species code, as defined in Table 2 to this part, and the number of animals.

(E) Mortality information, halibut PSQ. For halibut PSQ catch, enter the round weight to the nearest 0.001 mt, mortality rate, and overall halibut mortality in metric tons to the nearest 0.001 mt. Use the target fishery designations and halibut bycatch mortality rates in the annual final specifications published in the Federal Register under § 679.20(c).

(v) Catch and delivery information: catcher/processors, catcher vessels delivering unsorted codends to motherships, or catcher vessels (with observers) using nontrawl gear and discarding groundfish CDQ at sea (Option 2 in the CDP). Record the following information on each applicable CDQ catch report.

(A) Delivery information. (1) If a catcher vessel (with observers) using nontrawl gear, discarding groundfish CDQ at sea, and delivering to a shoreside processor or stationary floating processor, enter name and Federal processor permit number of the shoreside processor or the stationary floating processor, date catch delivered, and date fishing began on this trip.

(2) If a catcher vessel delivering unsorted codends to a mothership, enter the mothership name and Federal fisheries permit number, observer's haul number for this catch, and date codend is completely onboard the mothership as determined by the Level 2 observer.

(3) If a catcher/processor, the observer's haul number for this catch, and the date on which the gear was retrieved as determined by the Level 2 observer.

(B) Catch information, groundfish CDQ species. (See paragraph (n)(2)(iv)(B) of this section).

(C) Catch information, halibut IFQ/CDQ and sablefish IFQ (See paragraph (n)(2)(iv)(C) of this section).

(D) Mortality information, salmon and crab prohibited species. (See paragraph (n)(2)(iv)(D) of this section).

(E) Mortality information, halibut PSQ. (See § 679.5(n)(2)(iv)(E) of this section).

(o) Catcher vessel cooperative pollock catch report—(1) Applicability. The designated representative of each AFA inshore processor catcher vessel cooperative must submit to the Regional Administrator a catcher vessel cooperative pollock catch report detailing each delivery of pollock harvested under the allocation made to that cooperative. The owners of the member catcher vessels in the cooperative are jointly responsible for compliance and must ensure that the designated representative complies with the applicable recordkeeping and reporting requirements of this section.

(2) Time limits and submittal. (i) The cooperative pollock catch report must be submitted by one of the following methods:

(A) An electronic data file in a format approved by NMFS; or

(B) By FAX.

(ii) The cooperative pollock catch report must be received by the Regional Administrator by 1200 hours, A.l.t. 1 week after the date of completion of delivery.

(3) Information required. The cooperative pollock catch report must contain the following information:

(i) Cooperative account number;

(ii) Catcher vessel ADF&G number;

(iii) Inshore processor Federal processor permit number;

(iv) Delivery date;

(v) Amount of pollock (in lb) delivered plus weight of at-sea pollock discards;

(vi) ADF&G fish ticket number.

* * * * *

5. In § 679.7, paragraphs (a)(10) and (a)(11) are revised to read as follows:

§ 679.7 Prohibitions.

* * * * *

(a) * * *

(10) Recordkeeping and reporting. (i) Fail to comply with or fail to ensure compliance with requirements in §§ 679.4 or 679.5.

(ii) Alter, erase, or mutilate any permit, card or document issued under §§ 679.4 or 679.5.

(iii) Fail to submit or submit inaccurate information on, any report, application, or statement required under this part.

(iv) Intentionally submit false information on any report, application, or statement required under this part.

(11) Buying station—(i) Tender vessel. Use a catcher vessel or catcher/processor as a tender vessel before offloading all groundfish or groundfish product harvested or processed by that vessel.

(ii) Associated processor. Function as a vessel or land-based buying station without an associated processor.

* * * * *

6. In § 679.21, paragraphs (b)(1), (e)(1)(ii), and (e)(1)(iii) are revised to read as follows:

§ 679.21 Prohibited species bycatch management.

* * * * *

(b) General. (1) See § 679.2 for definition of prohibited species.

* * * * *

(e) * * *

(1) * * *

(ii) Red king crab in Zone 1. The PSC limit of red king crab caught by trawl vessels while engaged in directed fishing for groundfish in Zone 1 during any fishing year will be specified annually by NMFS, after consultation with the Council, based on abundance and spawning biomass of red king crab using the criteria set out under paragraphs (e)(1)(iii)(A) through (C) of this section. The following table refers to the PSC limits for red king crab that you must follow in Zone 1:

When the number of mature female red king crab is ... | The zone 1 PSC limit will be ...
(A) At or below the threshold of 8.4 million mature crab or the effective spawning biomass is less than or equal to 14.5 million lb (6,577 mt) | 32,000 red king crab.
(B) Above the threshold of 8.4 million mature crab and the effective spawning biomass is greater than 14.5 but less than 55 million lb (24,948 mt) | 97,000 red king crab.
(C) Above the threshold of 8.4 million mature crab and the effective spawning biomass is equal to or greater than 55 million lb | 197,000 red king crab.

(iii) Tanner crab (C. bairdi). The PSC limit of C. bairdi crabs caught by trawl vessels while engaged in directed fishing for groundfish in Zones 1 and 2 during any fishing year will be specified annually by NMFS under paragraph (e)(6) of this section, based on total abundance of C. bairdi crabs as indicated by the NMFS annual bottom trawl survey, using the criteria set out under paragraphs (e)(1)(iii)(A) and (B) of this section.

(A) The following table refers to the PSC limits for C. bairdi that you must follow in Zone 1:

When the total abundance of C. bairdi crabs is ... | The PSC limit will be ...
(1) 150 million animals or less | 0.5 percent of the total abundance minus 20,000 animals
(2) Over 150 million to 270 million animals | 730,000 animals
(3) Over 270 million to 400 million animals | 830,000 animals
(4) Over 400 million animals | 980,000 animals

(B) This table refers to the PSC limits for C. bairdi that you must follow in Zone 2.

When the total abundance of C. bairdi crabs is ... | The PSC limit will be ...
(1) 175 million animals or less | 1.2 percent of the total abundance minus 30,000 animals
(2) Over 175 million to 290 million animals | 2,070,000 animals
(3) Over 290 million to 400 million animals | 2,520,000 animals
(4) Over 400 million animals | 2,970,000 animals

* * * * *

7. In § 679.24, paragraph (b)(2) is removed and reserved; paragraph (a) heading and paragraphs (a)(1), (b)(3) are revised to read as follows:

§ 679.24 Gear limitations.

* * * * *

(a) Marking of hook-and-line, longline pot, and pot-and-line gear. (1) All hook-and-line, longline pot, and pot-and-line marker buoys carried on board or used by any vessel regulated under this part shall be marked with the following:

(i) The vessel's name; and

(ii) The vessel's Federal fisheries permit number; or

(iii) The vessel's ADF&G vessel registration number.

* * * * *

(b) * * *

(3) Trawl footrope. No person trawling in any GOA area limited to pelagic trawling under § 679.22 may allow the footrope of that trawl to be in contact with the seabed for more than 10 percent of the period of any tow.

* * * * *

§ 679.32 [Amended]

8. In § 679.32, paragraph (a)(2) is removed; paragraph (a)(1) is redesignated as paragraph (a).

9. In § 679.40, paragraphs (a)(2)(i)(C) and (D) are added to read as follows:

§ 679.40 Sablefish and halibut QS.

* * * * *

(a) * * *

(2) * * *

(i) * * *

(C) Who is a citizen of the United States at the time of application for QS.

(D) Who is a corporation, partnership, association, or other entity that would have qualified to document a fishing vessel as a vessel of the United States during the QS qualifying years of 1988, 1989, and 1990.

* * * * *

§ 679.41 [Amended]

10. In § 679.41, paragraph (i)(2) is removed; and paragraph (i)(3) is redesignated as paragraph (i)(2).

11. In § 679.42, paragraph (c)(2) is revised and paragraph (c)(3) is added to read as follows:

§ 679.42 Limitations on use of QS and IFQ.

* * * * *

(c) Requirements and deductions. * * *

(2) NMFS shall use the following sources of information to debit a CDQ or IFQ account. A CDQ or IFQ account will be debited as indicated in Table 3 to this part.

(i) Except as provided in § 679.5(l)(2)(vi)(J)(2), if offload of unprocessed CDQ or IFQ halibut or IFQ sablefish from a vessel, the scale weight of the halibut or sablefish product actually measured at the time of offload, as required by § 679.5(l)(2)(vi) to be included in the IFQ/CDQ landing report.

(ii) If offload of processed IFQ & CDQ halibut or IFQ sablefish from a vessel, the scale weight of the halibut or sablefish processed product actually measured at or before the time of offload. If the product scale weights are taken before the time of offload, then the species and actual product weight of each box or container must be visibly marked on the outside of each container to facilitate enforcement inspection.

(3) All IFQ catch onboard a vessel must be debited from the IFQ permit holder's account under which the catch was harvested.

* * * * *

12. In § 679.45, paragraphs (a)(4)(iii) and (iv) are revised to read as follows:

§ 679.45 IFQ cost recovery program.

(a) * * *

(4) * * *

(iii) Payment address. Mail payment and related documents to:

Administrator, Alaska Region, NMFS,

Attn: RAM Program,

P.O. Box 21668,

Juneau, AK 99802 1668,

FAX: (907) 586-7354.

or submit electronically to NMFS via forms available from RAM or on the RAM area of the Alaska Region Home Page at http://www.fakr.noaa.gov/ram.

(iv) Payment method. Payment must be made in U.S. dollars by personal check drawn on a U.S. bank account, money order, bank certified check, or credit card.

* * * * *

13. In part 679, Figure 3b, “Coordinates,” is revised, and Figures 19 and 20 are added to read as follows:

Figure 3 to Part 679—Gulf of Alaska Statistical and Reporting Areas
b. Coordinates
Code | Description
610 | Western GOA Regulatory Area, Shumagin District. Along the south side of the Aleutian Islands, including those waters south of Nichols Point (54°51′30″ N lat) near False Pass, and straight lines between the islands and the Alaska Peninsula connecting the following coordinates in the order listed: 52°49.18′ N, 169°40.47′ W; 52°49.24′ N, 169°07.10′ W; 53°23.13′ N, 167°50.50′ W; 53°18.95′ N, 167°51.06′ W; 53°58.97′ N, 166°16.50′ W; 54°02.69′ N, 166°02.93′ W; 54°07.69′ N, 165°39.74′ W; 54°08.40′ N, 165°38.29′ W; 54°11.71′ N, 165°23.09′ W; 54°23.74′ N, 164°44.73′ W; and southward to the limits of the US EEZ as described in the current editions of NOAA chart INT 813 (Bering Sea, Southern Part) and NOAA chart 500 (West Coast of North America, Dixon Entrance to Unimak Pass), between 170°00′ W long and 159°00′ W long.
620 | Central GOA Regulatory Area, Chirikof District. Along the south side of the Alaska Peninsula, between 159°00′ W long and 154°00′ W long, and southward to the limits of the US EEZ as described in the current edition of NOAA chart 500 (West Coast of North America, Dixon Entrance to Unimak Pass).
630 | Central GOA Regulatory Area, Kodiak District. Along the south side of continental Alaska, between 154°00′ W long and 147°00′ W long, and southward to the limits of the US EEZ as described in the current edition of NOAA chart 500 (West Coast of North America, Dixon Entrance to Unimak Pass). Excluding area 649.
640 | Eastern GOA Regulatory Area, West Yakutat District. Along the south side of continental Alaska, between 147°00′ W long and 140°00′ W long, and southward to the limits of the US EEZ, as described in the current edition of NOAA chart 500 (West Coast of North America, Dixon Entrance to Unimak Pass). Excluding area 649.
649 | Prince William Sound. Includes those waters of the State of Alaska inside the base line as specified in Alaska State regulations at 5 AAC 28.200.
650 | Eastern GOA Regulatory Area, Southeast Outside District. East of 140°00′ W long and southward to the limits of the US EEZ as described in the current edition of NOAA chart 500 (West Coast of North America, Dixon Entrance to Unimak Pass). Excluding area 659.
659 | Eastern GOA Regulatory Area, Southeast Inside District. As specified in Alaska State regulations at 5AAC 28.105 (a)(1) and (2).
690 | GOA outside the U.S. EEZas described in the current editions of NOAA chart INT 813 (Bering Sea, Southern Part) and NOAA chart 500 (West Coast of North America, Dixon Entrance to Unimak Pass).
NOTE: A statistical area is the part of a reporting area contained in the EEZ.

14. In part 679, Tables 1, 2, 3, 8, 9, 10, 11, and 14a are revised, and Table 19 is added to read as follows:

Table 1 to Part 679—Product and Delivery Codes
(These codes describe the condition of the fish at the point it is weighed and recorded)
Product Description | Code
GENERAL USE CODES*
Belly flaps. Flesh in region of pelvic and pectoral fins and behind head. (ancillary only) | 19
Bled only. Throat, or isthmus, slit to allow blood to drain. | 03
Bled fish destined for fish meal (includes offsite production) DO NOT RECORD ON PTR. | 42
Bones (if meal, report as 32) (ancillary only). | 39
Butterfly, no backbone. Head removed, belly slit, viscera and most of backbone removed; fillets attached. | 37
Cheeks. Muscles on sides of head (ancillary only) | 17
Chins. Lower jaw (mandible), muscles, and flesh (ancillary only) | 18
Fillets, deep-skin. Meat with skin, adjacent meat with silver lining, and ribs removed from sides of body behind head and in front of tail, resulting in thin fillets. | 24
Fillets, skinless/boneless. Meat with both skin and ribs removed, from sides of body behind head and in front of tail. | 23
Fillets with ribs, no skin. Meat with ribs with skin removed, from sides of body behind head and in front of tail. | 22
Fillets with skin and ribs. Meat and skin with ribs attached, from sides of body behind head and in front of tail. | 20
Fillets with skin, no ribs. Meat and skin with ribs removed, from sides of body behind head and in front of tail. | 21
Fish meal. Meal from whole fish or fish parts; includes bone meal. | 32
Fish oil. Rendered oil from whole fish or fish parts. Record only oil destined for sale and not oil stored or burned for fuel onboard. | 33
Gutted, head on. Belly slit and viscera removed. | 04
Head and gutted, with roe. | 06
Headed and gutted, Western cut. Head removed just in front of the collar bone, and viscera removed. | 07
Headed and gutted, Eastern cut. Head removed just behind the collar bone, and viscera removed. | 08
Headed and gutted, tail removed. Head removed usually in front of collar bone, and viscera and tail removed. | 10
Heads. Heads only, regardless where severed from body (ancillary only). | 16
Kirimi (Steak) Head removed either in front or behind the collar bone, viscera removed, and tail removed by cuts perpendicular to the spine, resulting in a steak. | 11
Mantles, octopus or squid. Flesh after removal of viscera and arms. | 36
Milt. (in sacs, or testes) (ancillary only). | 34
Minced. Ground flesh. | 31
Other retained product. If product is not listed on this table, enter code 97 and write a description with product recovery rate next to it in parentheses. | 97
Pectoral girdle. Collar bone and associated bones, cartilage and flesh. | 15
Roe. Eggs, either loose or in sacs, or skeins (ancillary only). | 14
Salted and split. Head removed, belly slit, viscera removed, fillets cut from head to tail but remaining attached near tail. Product salted. | 12
Stomachs. Includes all internal organs (ancillary only) | 35
Surimi. Paste from fish flesh and additives | 30
Whole fish/meal. Whole fish destined for meal (includes offsite production.) DO NOT RECORD ON PTR. | 41¹
Whole fish/food fish. | 01¹
Whole fish/bait. Processed for bait. Sold | 02
Wings. On skates, side fins are cut off next to body. | 13
DISCARD/DISPOSITION CODES
Whole fish/donated prohibited species. Number of Pacific salmon or Pacific halibut, otherwise required to be discarded, that is donated to charity under a NMFS-authorized program. | 86
Whole fish/onboard bait. Whole fish used as bait on board vessel. Not sold. | 92¹
Whole fish/damaged. Whole fish damaged by observer’s sampling procedures. | 93¹
Whole fish/personal use, consumption. Fish or fish products eaten on board or taken off the vessel for personal use. Not sold or utilized as bait | 95¹
Whole fish, discard, at sea. Whole groundfish and prohibited species discarded by catcher vessels, catcher/processors, motherships, or vessel buying stations. DO NOT RECORD ON PTR. | 98
Whole fish, discard, infested. Flea-infested fish, parasite-infested fish. | 88
Whole fish, discard, decomposed. Decomposed or previously discarded fish | 89
Whole fish, discard, onshore. Discard after delivery and before processing by shoreside processors, stationary floating processors and buying stations and in-plant discard of whole ground-fish and prohibited species during processing. DO NOT RECORD ON PTR. | 99
PRODUCT DESIGNATION CODES
Ancillary product. A product, such as meal, heads, internal organs, pectoral girdles, or any other product that may be made from the same fish as the primary product. | A
Primary product. A product, such as fillets, made from each fish, with the highest recovery rate. | P
Reprocessed or rehandled product. A product, such as meal, that results from processing a previously reported product or from rehandling a previously reported product. | R
PACIFIC HALIBUT IFQ & CDQ CODES The following codes are authorized for IFQ and CDQ reporting of Pacific halibut.
Gutted, head off. Belly slit and viscera removed. Pacific halibut only. | 05
Gutted, head on. Belly slit and viscera removed. Pacific halibut. | 04
The following codes are effective through December 31, 2001. |
Whole fish/food fish with ice & slime. Sablefish only. | 51
Gutted, head on. Belly slit and viscera removed. Pacific halibut and sablefish. | 54
Gutted, head off, with ice & slime. Belly slit and viscera removed. Pacific halibut only. | 55
Headed and gutted, Western cut, with ice & slime. Sablefish only. | 57
Headed and gutted, Eastern cut, with ice & slime. Sablefish only. | 58
¹ When using whole fish codes, record round weights not product weights, even if the whole fish is not used.

Table 2 to Part 679—Species Codes for FMP Species and non-FMP Species
(Codes without asterisks are FMP species—Federal groundfish or Prohibited Species in groundfish fisheries—that must be recorded in R&R systems)
Species description | Code
Atka mackerel (greenling) | 193
FLOUNDER
Arrowtooth and/or Kamchatka | 121
Starry | 129
Alaska Plaice | 133
Octopus | 870
Pacific Cod | 110
Pollock | 270
ROCKFISH
Aurora | 185
Black (BSAI) | 142
Blackgill | 177
Bocaccio | 137
Canary | 146
Chilipepper | 178
China | 149
Copper | 138
Darkblotched | 159
Dusky | 154
Greenstriped | 135
Harlequin | 176
Northern | 136
Pacific Ocean Perch (S. alutus only) | 141
Pygmy | 179
Quillback | 147
Redbanded | 153
Redstripe | 158
Rosethorn | 150
Rougheye S. Aleutianus | 151
Sharpchin | 166
Shortbelly | 181
Shortraker (S. Borealis) | 152
Silvergray | 157
Splitnose | 182
Stripetail | 183
Thornyhead (all Sebastolobus species) | 143
Tiger | 148
Vermilion | 184
Widow | 156
Yelloweye | 145
Yellowmouth | 175
Yellowtail | 155
Sablefish (blackcod) | 710
Sculpins | 160
SHARKS
general | 689
Pacific sleeper | 692
salmon | 690
spiny dogfish | 691
Skate, longnose | 701
Skates, general | 700
SOLE
Butter | 126
Dover | 124
English | 128
Flathead | 122
Petrale | 131
Rex | 125
Rock | 123
Sand | 132
Yellowfin | 127
Squid | 875
Turbot, Greenland | 134
FORAGE FISH (all species of the following families) |
Bristlemouths, lightfishes, and anglemouths (family Gonostomatidae) | 209
Capelin smelt (family Osmeridae) | 516
Deep-sea smelts (family Bathylagidae) | 773
Eulachon smelt (family Osmeridae) | 511
Gunnels (family Pholidae) | 207
Krill (order Euphausiacea) | 800
Laternfishes (family Myctophidae) | 772
Pacific herring (family Clupeidae) | 235
Pacific Sand fish (family Trichodontidae) | 206
Pacific Sand lance (family Ammodytidae) | 774
Pricklebacks, war-bonnets, eelblennys, cockscombs and Shannys (family Stichaeidae) | 208
Surf smelt (family Osmeridae) | 515
GROUP CODES (DO NOT USE FOR SORTING SPECIES. Do not record on ADF&G fish tickets). |
Demersal shelf rockfish (china, copper, quillback, rosethorn, tiger, yellow-eye, canary) | 168
Miscellaneous flatfish (all flatfish without separate codes) | 120
Pelagic shelf rockfish (dusky, yellowtail, widow) | 169
Shortraker/rougheye rockfish | 171
Slope rockfish (aurora, blackgill, Bocaccio, redstripe, silvergray, chili-pepper, dark-blotched, green-striped, harlequin, pygmy, redbanded, shortbelly, split-nose, stripetail, vermillion, yellowmouth, sharpchin). | 144
PROHIBITED SPECIES CODES |
CRAB |
Red king | 921
Blue king | 922
Gold/brown king | 923
Scarlet king | 924
Bairdi tanner | 931
Opilio Tanner | 932
Tanner, grooved | 933
Tanner, triangle | 934
Pacific halibut | 200
Pacific herring (family Clupeidae) | 230
SALMON
Chinook | 410
Sockeye | 420
Coho | 430
Pink | 440
Chum | 450
Steelhead trout | 540
Additional *non-FMP CODES (*These species codes may be recorded in NMFS logbooks and reports but are not required by regulations of this part.) |
Abalone | 860
Albacore | 720
Arctic char, anadromous | 521*
CLAMS
Butter | 810*
Cockle | 820*
Eastern softshell | 842*
Geoduck | 815*
Little-neck | 840*
Razor | 830*
Surf | 812*
Coral | 899*
CRAB
Box | 900*
Dungeness | 910
Korean horsehair | 940*
Multispine | 951*
Verrilli | 953*
Dolly varden, anadromous | 531*
Eels or eel-like fish | 210*
Giant grenadier | 214*
Greenling, kelp | 194*
Greenling, rock | 191*
Greenling, whitespot | 192*
Grenadier (rattail) | 213*
Jellyfish | 625*
Lamprey, pacific | 600*
Lingcod | 130*
Lumpsucker | 216*
Mussel, blue | 855*
Pacific flatnose | 260*
Pacific hagfish | 212*
Pacific saury | 220*
Pacific tomcod | 250*
Prowfish | 215*
Rockfish, black | 142*
Rockfish, blue | 167*
Sardine, Pacific (pilchard) | 170*
Scallop, weathervane | 850*
Scallop, pink (or calico) | 851*
Sea cucumber | 895*
Sea urchin, green | 893*
Sea urchin, red | 892*
Shad | 180*
SHRIMP
Pink | 961*
Sidestripe | 962*
Humpy | 963*
Coonstripe | 964*
Spot | 965*
Skilfish | 715*
Smelt, surf | 515*
Snails | 890*
Sturgeon, general | 680*

BILLING CODE 3510-22-S

BILLING CODE 3510-22-C

Table 8 to Part 679—Harvest Zone Codes for Use with Vessel Activity Reports
Harvest Zone | Description
A1 | BSAI EEZ off Alaska
A2 | GOA EEZ off Alaska
B | State waters of Alaska
C | State waters other than Alaska
D | Donut Hole
F | Foreign Waters Other than Russia
I | International Waters other than Donut Hole and Seamounts
R | Russian waters
S | Seamounts in International waters
U | U.S. EEZ other than Alaska

Table 9 to Part 679—Required Logbooks, Reports, Forms and Electronic Logbook and Reports from Participants in the Federal Groundfish Fisheries
Requirement Name | Catcher vessel | Catcher/Processor | Mothership | Shoreside Processor³ | Buying Station
Daily Fishing Logbook (DFL)¹ | YES | NO | NO | NO | NO
Daily Cumulative Production Logbook (DCPL)¹ | NO | YES | YES | YES | NO
Buying Station Report (BSR) | NO | NO | NO | NO | YES
Check-in/Check-out Report | NO | YES | YES | YES | NO
Optional: Electronic Check-in/out report | NO | YES | YES | YES | NO
Weekly Production Report (WPR) | NO | YES | YES | YES | NO
Optional: Electronic WPR | NO | YES | YES | YES | NO
Shoreside Processor Electronic Logbook Report (SPELR) instead of DCPL and WPR when receiving AFA pollock or pollock harvested in a directed pollock fishery | NO | NO | NO | YES | NO
Optional: SPELR instead of DCPL and WPR | NO | NO | NO | YES | NO
U.S. Vessel Activity Report (VAR) | YES | YES | YES | NO | NO
Daily Production Report (DPR)² | NO | YES | YES | YES | NO
Product Transfer Report (PTR) | NO | YES | YES | YES | NO
Required use AFA and CDQ at-sea scales, including daily scale test, printed scale output, request for inspection of scales and observer station, scale approval sticker | NO | YES | YES | NO | NO
VMS when fishing for Atka mackerel or AFA pollock | YES | YES | NO | NO | NO
¹ Two formats of the DFL and catcher/processor DCPL exist: one for trawl gear and one for longline and pot gear.
² DPR is submitted only when specifically requested by Regional Administrator.
³ Also stationary floating processor.

BILLING CODE 3510-22-S

BILLING CODE 3510-22-C/BILCOD>

Table 11 to Part 679—BSAI Retainable Percentages
INCIDENTAL CATCH SPECIES¹
BASIS SPECIES | Pollock | Pacific cod | Atka mackerel | Arrow-tooth | Yellowfin sole | Other flatfish¹ | Rock sole | Flathead sole | Greenland turbot | Sablefish | Shortraker/rougheye | Aggregated Rockfish² | Squid | Aggregate Forage Fish ³ | Other Species
Pollock (270) | na⁴ | 20 | 20 | 35 | 20 | 20 | 20 | 20 | 1 | 1 | 2 | 5 | 20 | 2 | 20
Pacific cod (110) | 20 | na ⁽⁴⁾ | 20 | 35 | 20 | 20 | 20 | 20 | 1 | 1 | 2 | 5 | 20 | 2 | 20
Atka mackerel (193) | 20 | 20 | na ⁴ | 35 | 20 | 20 | 20 | 20 | 1 | 1 | 2 | 5 | 20 | 2 | 20
Arrowtooth (121) | 0 | 0 | 0 | na⁽⁴⁾ | 0 | 0 | 0 | 0 | 0 | 0 | 0 | 0 | 0 | 2 | 0
Yellowfin sole (127) | 20 | 20 | 20 | 35 | na⁴ | 35 | 35 | 35 | 1 | 1 | 2 | 5 | 20 | 2 | 20
Other flatfish ¹ | 20 | 20 | 20 | 35 | 35 | na ⁴ | 35 | 35 | 1 | 1 | 2 | 5 | 20 | 2 | 20
Rock sole | 20 | 20 | 20 | 35 | 35 | 35 | na⁴ | 35 | 1 | 1 | 2 | 5 | 20 | 2 | 20
Flathead sole | 20 | 20 | 20 | 35 | 35 | 35 | 35 | na ⁴ | 35 | 15 | 7 | 15 | 20 | 2 | 20
Greenland turbot | 20 | 20 | 20 | 35 | 20 | 20 | 20 | 20 | na ⁴ | 15 | 7 | 15 | 20 | 2 | 20
Sablefish ⁵ | 20 | 20 | 20 | 35 | 20 | 20 | 20 | 20 | 35 | na ⁴ | 7 | 15 | 20 | 2 | 20
Other rockfish⁶ | 20 | 20 | 20 | 35 | 20 | 20 | 20 | 20 | 35 | 15 | 7 | 15 | 20 | 2 | 20
Other red rockfish-BS⁷ | 20 | 20 | 20 | 35 | 20 | 20 | 20 | 20 | 35 | 15 | na⁽⁴⁾ | 15 | 20 | 2 | 20
Pacific Ocean perch (141) | 20 | 20 | 20 | 35 | 20 | 20 | 20 | 20 | 35 | 15 | 7 | 15 | 20 | 2 | 20
Sharpchin (166)/Northern AI (136) | 20 | 20 | 20 | 35 | 20 | 20 | 20 | 20 | 35 | 15 | 7 | 15 | 20 | 2 | 20
Shortaker/Rougheye AI (171) | 20 | 20 | 20 | 35 | 20 | 20 | 20 | 20 | 35 | 15 | na ⁴ | 5 | 20 | 2 | 20
Squid (875) | 20 | 20 | 20 | 35 | 20 | 20 | 20 | 20 | 1 | 1 | 2 | 5 | na⁴ | 2 | 20
Other species ⁸ | 20 | 20 | 20 | 35 | 20 | 20 | 20 | 1 | 1 | 2 | 5 | 20 | 2 | na ⁴
Aggregated amount of non-groundfish species | 20 | 20 | 20 | 35 | 20 | 20 | 20 | 20 | 1 | 1 | 2 | 5 | 20 | 2 | 20
¹For definition of grouped species, see footnotes to Table1 of the GOA groundfish specifications (http://www.fakr.noaa.gov/sustainablefisheries/2000harvestspecs.htm). ²Aggregated rock fish of the genera Sebastes and Sebastolobus except in the Aleutian Islands Subarea where shortraker and rougheye rockfish is a separate category. ³Forage fish are defined at Table 1 to this part. ⁴ na = not applicable ⁵For fixed gear restrictions, see 50 CFR 679.7 (f)(3)(ii) and 679.7 (f)(11).⁶“Other rockfish” includes all Sebastes and Sebastolobus species except for Pacific ocean perch; and sharpchin, northern, shortraker, and rougheye rockfish. ⁷ Other red rockfish (Bering Sea) includes shortraker, rougheye, sharpchin, and northern rockfish. ⁸ “Other species” includes sculpins, sharks, skates and octopus. Forage fish, as defined at § 679.2 are not included in the “other species” category.

Table 14a to Part 679--Port of Landing Codes, including CDQ and IFQ Primary Ports (a) Alaska
Port Name | NMFS Code | ADF&G Code ADF&G Code | CDQ/IFQ Primary Ports for Vessel Clearance (X indicates an authorized IFQ port; see § 679.5(l)(5)(vi)): CDQ/IFQ | CDQ/IFQ Primary Ports for Vessel Clearance (X indicates an authorized IFQ port; see § 679.5(l)(5)(vi)): North Latitude | CDQ/IFQ Primary Ports for Vessel Clearance (X indicates an authorized IFQ port; see § 679.5(l)(5)(vi)): West Longitude
Adak | 186 | ADA |  |  |
Akutan | 101 | AKU | X | 54°08′05″ | 165°46′20″
Akutan Bay | 102 |  |  |  |
Alitak | 103 | ALI |  |  |
Anchor Point | 104 |  |  |  |
Anchorage | 105 | ANC |  |  |
Angoon | 106 | ANG |  |  |
Aniak |  | ANI |  |  |
Anvik |  | ANV |  |  |
Atka | 107 | ATK |  |  |
Auke Bay | 108 |  |  |  |
Baranof Warm Springs | 109 |  |  |  |
Beaver Inlet | 110 |  |  |  |
Bethel |  | BET |  |  |
Captains Bay | 112 |  |  |  |
Chignik | 113 | CHG |  |  |
Chinitna Bay | 114 |  |  |  |
Cordova | 115 | COR | X | 60°33′00″ | 145°45′00″
Craig | 116 | CRG | X | 55°28′30″ | 133°09′00″
Dillingham | 117 | DIL |  |  |
Douglas | 118 |  |  |  |
Dutch Harbor/Unalaska | 119 | DUT | X | 53°53′27″ | 166°32′05″
Edna Bay | 121 |  |  |  |
Egegik | 122 | EGE |  |  |
Ekuk |  | EKU |  |  |
Elfin Cove | 123 | ELF |  |  |
Emmonak |  | EMM |  |  |
False Pass | 125 | FSP |  |  |
Fairbanks |  | FBK |  |  |
Galena |  | GAL |  |  |
Glacier Bay |  | GLB |  |  |
Glennallen |  | GLN |  |  |
Gustavus | 127 | GUS |  |  |
Haines | 128 | HNS |  |  |
Halibut Cove | 130 |  |  |  |
Hollis | 131 |  |  |  |
Homer | 132 | HOM | X | 59°38′40″ | 151°33′00″
Hoonah | 133 | HNH |  |  |
Hydaburg |  | HYD |  |  |
Hyder | 134 | HDR |  |  |
Ikatan Bay | 135 |  |  |  |
Juneau | 136 | JNU |  |  |
Kake | 137 | KAK |  |  |
Kaltag |  | KAL |  |  |
Kasilof | 138 | KAS |  |  |
Kenai | 139 | KEN |  |  |
Kenai River | 140 |  |  |  |
Ketchikan | 141 | KTN | X | 55°20′30″ | 131°38′45″
King Cove | 142 | KCO | X | 55°03′20″ | 162°19′00″
King Salmon | 143 | KNG |  |  |
Kipnuk | 144 |  |  |  |
Klawock | 145 | KLA |  |  |
Kotzebue |  | KOT |  |  |
La Conner |  | LAC |  |  |
Mekoryuk | 147 |  |  |  |
Metlakatla | 148 | MET |  |  |
Moser Bay |  | MOS |  |  |
Naknek | 149 | NAK |  |  |
Nenana |  | NEN |  |  |
Nikiski (or Nikishka) | 150 | NIK |  |  |
Ninilchik | 151 | NIN |  |  |
Nome | 152 | NOM |  |  |
Nunivak Island |  | NUN |  |  |
Old Harbor | 153 | OLD |  |  |
Other/Unknown¹ | 499 | UNK |  |  |
Pelican | 155 | PEL | X | 57°57′30″ | 136°13′30″
Petersburg | 156 | PBG | X | 56°48′10″ | 132°58′00″
Point Baker | 157 |  |  |  |
Port Alexander | 158 | PAL |  |  |
Port Armstrong |  | PTA |  |  |
Port Bailey | 159 | PTB |  |  |
Port Graham | 160 | GRM |  |  |
Port Lions |  | LIO |  |  |
Port Moller |  | MOL |  |  |
Port Protection | 161 |  |  |  |
Resurrection Bay | 163 |  |  |  |
Sand Point | 164 | SPT | X | 55°20′15″ | 160°30′00″
Savoonga | 165 |  |  |  |
Seldovia | 166 | SEL |  |  |
Seward | 167 | SEW | X | 60°06′30″ | 149°26′30″
Sitka | 168 | SIT | X | 57°03′ | 135°20′
Skagway | 169 | SKG |  |  |
Soldotna |  | SOL |  |  |
St. George | 170 | STG |  |  |
St. Lawrence | 171 |  |  |  |
St. Mary |  | STM |  |
St. Paul | 172 | STP | X | 57°07′20″ | 170°16′30″
Tee Harbor | 173 |  |  |  |
Tenakee Springs | 174 | TEN |  |  |
Thorne Bay | 175 |  |  |  |
Togiak | 176 | TOG |  |  |
Toksook Bay | 177 |  |  |  |
Tununak | 178 |  |  |  |
Ugadaga Bay | 179 |  |  |  |
Ugashik |  | UGA |  |  |
Unalakleet |  | UNA |  |  |
Valdez | 181 | VAL |  |  |
Wasilla |  | WAS |  |  |
Whittier | 183 | WHT |  |  |
Wrangell | 184 | WRN |  |  |
Yakutat | 185 | YAK | X | 59°33′ | 139°44′
¹To report a landing at a location not currently assigned a location code number: use the code for “Other” for the state or country at which the landing occurs and notify NMFS of the actual location so that we may update our list. For example, to report a landing for Levelock, Alaska if there is currently no code assigned, use “499” “Other, AK”.

Table 19 to Part 679—Seabird Avoidance Gear Codes
Code | Seabird Avoidance Gear
1 | Bird streamer line. Tow a streamer line or lines during deployment of gear to prevent birds from taking hooks. Streamer line consists of three components: a length of line, streamers attached along a portion of the lenght and one or more float devices at the terminal end. This device can be single or paired.
2 | Buoy bag, bird bag, or other float device. Tow a buoy, board, stick or other device during deployment of gear, at a distance appropriate to prevent birds from taking baited hooks. Each of these devices consist of two components: a length of line (without streamers attached), and one or more float devices at the terminal end. Multiple devices may be used.
3 | Lining tube and /or line shooter. Deploy hooks underwater through a lining tube at a depth sufficient to prevent birds from settling on hooks during deployment of gear.
4 | Combination of devices. Any combination of the above devices (codes 1, 2, and / or 3).
9 | No bird deterrent device deployed.
0 | Night fishing Deploy gear only during the hours specified in § 679.24 (e)(3) using only the minium vessel’s lights necessary for safety.

§§ 679.1, 679.2, 679.4, 679.5, 679.6, 679.7, 679.20, 679.21, 679.22, 679.23, 679.24, 679.26, 679.30, 679.32, 679.41, 679.43, 679.50, and Figure 3 to Part 679 [Amended]

15. At each of the locations shown in the “Location” column, remove the phrase indicated in the “Remove” column and replace it with the phrase indicated in the “Add” column.

BILLING CODE 3510-22-S

[FR Doc. 02-1875 Filed 1-25-02; 8:45 am]

BILLING CODE 3510-22-C